DEPARTMENT OF VETERANS AFFAIRS

Privacy Act of 1974; System of Records

AGENCY: Department of Veterans Affairs.

ACTION: Notice of Amendment of System of Records “Compensation, Pension, Education, and Rehabilitation Records—VA (58VA21/22/28)”.

SUMMARY: As required by the Privacy Act of 1974, 5 U.S.C. 552a(e)(4), notice is hereby given that the Department of Veterans Affairs (VA) proposes to modify, alter, amend, rename and republish in its entirety the existing system of records “Compensation, Pension, Education, and Rehabilitation Records—VA (58VA21/22/28)”.

DATES: The amended and altered system, which incorporates the comments received following the publication on April 1, 2009, shall become effective June 29, 2009.

FOR FURTHER INFORMATION CONTACT: Michael F. Palmer, Program Analyst, Office of Business Process Integration (20C), Veterans Benefits Administration (VBA), Department of Veterans Affairs, 810 Vermont Ave., NW., Washington, DC 20420, (336) 714-5939.

SUPPLEMENTARY INFORMATION: As required by the Privacy Act of 1974, as amended, 5 U.S.C. 552a(e)(4), this document sets forth the amendment of the proposed alteration of a system of records maintained by VBA, in response to comments received following publication in the Federal Register at 74 FR 14865 on April 1, 2009. VBA is altering the proposed republication of the system of records to include changes made in response to the six comments received.

Comment 1: The commenter expresses a concern over language in the system that states, ”This system of records does not directly address health or memorial benefits administered respectively by the Veterans Health Administration or the National Cemetery Administration, the other two of the three Administrations within VA.” Commenter indicated that, “VBA does administer claims for health related problems and the words ‘health, dental, medical, disability’ or compilations thereof, are referenced approximately 22 times throughout this document.”

Response: VBA does not administer health benefits. VBA administers compensation benefits based on service connection for injuries or medical conditions incurred or aggravated during military service. The Veterans Health Administration administers health care benefits. The sentence to which the commenter registers objections has no operational impact, and merely distinguishes the proposed system of records from other systems of records administered by the other two administrations within the Department.

Comment 2: The commenter expresses concern over the disposition of the Official Military Personnel File (OMPF), which is the official property of the Department of Defense (DoD) that VBA occasionally incorporates into its claims folders in order to administer statutory benefits.

Response: We have revised the notice to reflect that at the death of the veteran, all documents in VBA's possession that are the official property of the DoD shall be retained permanently. At the death of the veteran, DoD-owned documents shall be transferred to the National Archives and Records Administration (NARA) and maintained in accordance with NARA regulations.

Comment 3: The commenter expresses concern that in the section “Categories of Records in the System”, the notice shows that the system contains documents that were generated by DoD. The commenter recommends that VA adhere to disposition schedules approved by the National Archives and Records Administration (NARA).

Response: See our response to comment 2 above.

Comment 4: The commenter expresses concern regarding Routine Use Number 58, which states, “Disclosure may be made to the National Archives and Records Administration and General Services Administration in records management inspections and such other activities conducted under Authority of Title 44 U.S.C”. The commenter states that GSA and NARA were separated in 1985, and therefore the reference to GSA should be removed.

Response: The reference to GSA shall be removed; otherwise, the routine use is acceptable, as it specifically limits the activities of NARA to that which is authorized under Title 44.

Comment 5: The notice states that VBA holds claims folders until the death of the veteran, after which they are sent to the Federal Records Center (FRC) and held for 75 years, and then destroyed. The commenter indicates that the claims folders occasionally contain records from the OMPF and the service treatment records (STRs). There is no NARA disposition schedule for STRs, and the OMPF records are considered permanent.

Response: See response to comment 2.

Comment 6: Commenter requests to know the disposition of DoD-owned documents if the claims folder is destroyed after being electronically imaged and stored in Virtual VA.

Response: We have revised the notice to reflect that after all DoD-owned paper documents have been electronically imaged, those DoD-owned paper documents will either be stored at the VA Records Management Center (RMC), or sent to NARA to be maintained in accordance with NARA regulations.

This Notice meets the requirements to notify the public that VA is amending the proposed changes to the republished system of records following the initial publication at 74 FR 14865 on April 1, 2009, as detailed above. With this notification, this system of records is effective June 29, 2009.

Approved: June 10, 2009.
John R. Gingrich,
Chief of Staff, Department of Veterans Affairs.

58VA21/22/28

SYSTEM NAME:

Compensation, Pension, Education, and Vocational Rehabilitation and Employment Records—VA.

SYSTEM LOCATION:

Records are maintained at the Department of Veterans Affairs (VA) regional offices, VA centers, the VA Records Management Center, St. Louis, Missouri, the Data Processing Center at Hines, Illinois, the Corporate Franchise Data Center in Austin, Texas, and the Information Technology Center at Philadelphia, PA. Active records are generally maintained by the regional offices having jurisdiction over the domicile of the claimant. Active educational assistance records are generally maintained at the regional processing office having jurisdiction over the educational institution, training establishment, or other entity where the claimant pursues or intends to pursue training. Address locations of VA facilities are listed in the VA Appendix I and are also listed at http://www2.va.gov/directory/guide/home.asp?isFlash=1. The automated individual employee productivity records are temporarily maintained at the VA data processing facility serving the office in which the employee is located. The paper record is maintained at the VA regional office having jurisdiction over the employee who processed the claim. Records provided to the Department of Housing and Urban Development (HUD) for inclusion on its Credit Alert Interactive Voice Response System (CAIVRS) are located at a data processing center under contract to HUD at Lanham, Maryland.

CATEGORIES OF INDIVIDUALS COVERED BY THE SYSTEM:

The following categories of individuals will be covered by this system.

1. Veterans who have applied for compensation for service-connected disability under 38 U.S.C. chapter 11.

2. Veterans who have applied for nonservice-connected disability under 38 U.S.C. chapter 15.

3. Veterans entitled to burial benefits under 38 U.S.C. chapter 23.

4. Surviving spouses and children who have claimed pensions based on nonservice-connected death of a veteran under 38 U.S.C. chapter 15.

5. Surviving spouses and children who have claimed death compensation based on service-connected death of a veteran under 38 U.S.C. chapter 11.

6. Surviving spouses and children who have claimed dependency and indemnity compensation for service-connected death of a veteran under 38 U.S.C. chapter 13.

7. Parents who have applied for death compensation based on service-connected death of a veteran under 38 U.S.C. chapter 11.

8. Parents who have applied for dependency and indemnity compensation for service-connected death of a veteran under 38 U.S.C. chapter 13.

9. Individuals who applied for educational assistance benefits administered by VA under title 38 U.S.C.

10. Individuals who applied for educational assistance benefits maintained by the Department of Defense under 10 U.S.C. that are administered by VA.

11. Veterans who apply for training and employers who apply for approval of their programs under the provisions of the Emergency Veterans' Job Training Act of 1983, Public Law 98-77.

12. Any VA employee who generates or finalizes adjudicative actions using the Benefits Delivery Network (BDN) or the Veterans Service Network (VETSNET) computer processing systems.

13. Veterans who apply for training and employers who apply for approval of their programs under the provisions of the Service Members Occupational Conversion and Training Act of 1992, Public Law 102-484.

14. Representatives of individuals covered by the system.

CATEGORIES OF RECORDS IN THE SYSTEM:

The record, or information contained in the record, may include identifying information (e.g., name, address, social security number); military service and active duty separation information (e.g., name, service number, date of birth, rank, sex, total amount of active service, branch of service, character of service, pay grade, assigned separation reason, service period, whether veteran was discharged with a disability, reenlisted, received a Purple Heart or other military decoration); payment information (e.g., veteran payee name, address, dollar amount of readjustment service pay, amount of disability or pension payments, number of nonpay days, any amount of indebtedness (accounts receivable) arising from title 38 U.S.C. benefits and which are owed to the VA); medical information (e.g., medical and dental treatment in the Armed Forces including type of service-connected disability, medical facilities, or medical or dental treatment by VA health care personnel or received from private hospitals and health care personnel relating to a claim for VA disability benefits or medical or dental treatment); personal information (e.g., marital status, name and address of dependents, occupation, amount of education of a veteran or a dependent, dependent's relationship to veteran); education benefit information (e.g., information arising from utilization of training benefits such as a veteran trainee's induction, reentrance or dismissal from a program or progress and attendance in an education or training program); applications for compensation, pension, education and vocational rehabilitation benefits and training which may contain identifying information, military service and active duty separation information, payment information, medical and dental information, personal and education benefit information relating to a veteran or beneficiary's incarceration in a penal institution (e.g., name of incarcerated veteran or beneficiary, claims folder number, name and address of penal institution, date of commitment, type of offense, scheduled release date, veteran's date of birth, beneficiary relationship to veteran and whether veteran or beneficiary is in a work release or half-way house program, on parole or has been released from incarceration).

The VA employee's BDN or VETSNET identification numbers, the number and kind of actions generated and/or finalized by each such employee, the compilation of cases returned for each employee.

AUTHORITY FOR MAINTENANCE OF THE SYSTEM:

Title 10 United States Code (U.S.C.) chapters 106a, 510, 1606 and 1607 and Title 38, U.S.C., section 501(a) and Chapters 11, 13, 15, 18, 23, 30, 31, 32, 33, 34, 35, 36, 39, 51, 53, and 55.

PURPOSE(S):

VA gathers or creates these records in order to enable it to administer statutory benefits programs to veterans, service members, reservists, and their spouses, surviving spouses, and dependents, who file claims for a wide variety of Federal veteran's benefits administered by VA. See the statutory provisions cited in “Authority for maintenance of the system”.

ROUTINE USES OF RECORDS MAINTAINED IN THE SYSTEM, INCLUDING CATEGORIES OF USERS AND THE PURPOSES OF SUCH USES:

1. The record of an individual who is covered by this system or records may be disclosed to a Member of Congress, or staff person acting for the member when, the member or staff person requests the record on behalf of and at the written request of that individual.

2. Any information in this system may be disclosed to a Federal agency, upon its official request, to the extent that it is relevant and necessary to that agency's decision regarding: the hiring, retention or transfer of an employee; the issuance of a security clearance, the letting of a contract, or the issuance or continuance of a license, grant or other benefit given by that agency. However, in accordance with an agreement with the U.S. Postal Service, disclosures to the U.S. Postal Service for decisions concerning the employment of veterans will only be made with the veteran's prior written consent.

3. Any information in this system may be disclosed to a State or local agency, upon official request, to the extent that it is relevant and necessary to that agency's decision on: The hiring, retention or transfer of an employee, the issuance of a security clearance, the letting of a contract, or the issuance or continuance of a license, grant or other benefit by that agency including eligibility for unemployment compensation; provided, that if the information pertains to a veteran, the name and address of the veteran will not be disclosed unless the name and address is provided first by the requesting State or local agency.

4. VA may disclose on its own initiative any information in this system, except the names and home addresses of individuals, that are relevant to a suspected violation or reasonably imminent violation of law, whether civil, criminal or regulatory in nature and whether arising by general or program statute or by regulation, rule or order issued pursuant thereto, to a Federal, State, local, tribal, or foreign agency charged with the responsibility of investigating or prosecuting such violation, or charged with enforcing or implementing the statute, rule, regulation or order.

5. VA may disclose on its own initiative the names and addresses of individuals, that are relevant to a suspected violation or reasonably imminent violation of law, whether civil, criminal or regulatory in nature and whether arising by general or program statute or by regulation, rule or order issued pursuant thereto, to a Federal agency charged with the responsibility of investigating or prosecuting such violation or charged with enforcing or implementing the statute, regulation, rule or order.

6. The name and address of an individual, which is relevant to a suspected violation or reasonably imminent violation of law concerning public health or safety, whether civil, criminal or regulatory in nature and whether arising by general or program statute or by regulation, rule or order issued pursuant thereto, may be disclosed to any foreign, State or local governmental agency or instrumentality charged under applicable law with the protection of the public health or safety if a qualified representative of such organization, agency or instrumentality has made a written request that such name and address be provided for a purpose authorized by law.

7. The name, address, entitlement code (e.g., compensation or pension), period(s) of service, sex, and date(s) of discharge may be disclosed to any nonprofit organization if the release is directly connected with the conduct of programs and the utilization of benefits under title 38 U.S.C. Disclosures may be in the form of a computerized list.

8. Any information in this system, except for the name and address of an individual, may be disclosed to a Federal agency in order for VA to obtain information relevant to the issuance of a benefit under title 38 U.S.C. The name and address of an individual may be disclosed to a Federal agency under this routine use if they are required by the Federal agency to respond to the VA inquiry.)

9. Any information in this system may be disclosed in connection with any proceeding for the collection of an amount owed to the United States by virtue of a person's participation in any benefit program administered by the Department of Veterans Affairs when in the judgment of the Secretary, or official generally delegated such authority under standard agency delegation of authority rules (38 CFR 2.6), such disclosure is deemed necessary and proper, in accordance with 38 U.S.C. 5701(b)(6).

10. The name and address of an individual, and other information as is reasonably necessary to identify such individual, may be disclosed to a consumer reporting agency for the purpose of locating the individual, or obtaining a consumer report to determine the ability of the individual to repay an indebtedness to the United States arising by virtue of the individual's participation in a benefits program administered by the VA, provided that the requirements of 38 U.S.C. 5701(g)(2) have been met.

11. The name and address of an individual, and other information as is reasonably necessary to identify such individual, including personal information obtained from other Federal agencies through computer matching programs, and any information concerning the individual's indebtedness to the United States by virtue of the person's participation in a benefits program administered by VA, may be disclosed to a consumer reporting agency for purposes of assisting in the collection of such indebtedness, provided that the provisions of 38 U.S.C. 5701(g)(4) have been met.

12. Any information in this system, including available identifying information regarding the debtor, such as name of debtor, last known address of debtor, VA insurance number, VA loan number, VA claim number, place of birth, date of birth of debtor, name and address of debtor's employer or firm and dates of employment may be disclosed, under this routine use, except to consumer reporting agencies, to a third party in order to obtain current name, address, locator, and credit report in connection with any proceeding for the collection of an amount owed to the United States by virtue of a person's participation in any VA benefit program when in the judgment of the Secretary such disclosure is deemed necessary and proper. This purpose is consistent with the Federal Claims Collection Act of 1966 (Pub. L. 89-508, 31 U.S.C. 951-953 and 4 CFR parts 101-105 and 38 U.S.C. 5701(b)(6)).

13. Any information in this system, including the nature and amount of a financial obligation, may be disclosed to a debtor's employing agency or commanding officer so that the debtor-employee may be counseled by his or her Federal employer or commanding officer and to assist in the collection of unpaid financial obligations owed VA.

14. Payment information may be disclosed to the Department of the Treasury, in accordance with its official request, to permit delivery of benefit payments to veterans or other beneficiaries.

15. Medical information may be disclosed in response to a request from the superintendent of a State hospital for psychotic patients, a commissioner or head of a State department of mental hygiene, or a head of a State, county or city health department or any fee basis physician or sharing institution in direct connection with authorized treatment for a veteran, provided the name of the individual to whom the record pertains is given and the information will be treated as confidential, as is customary in civilian professional medical practice.

16. The name, address, VA file number, effective date of compensation or pension, current and historical benefit pay amounts for compensation or pension, service information, date of birth, competency payment status, incarceration status, and social security number of veterans and their surviving spouses may be disclosed to the following agencies upon their official request: Department of Defense; Defense Manpower Data Center; Marine Corps; Department of Homeland Security; Coast Guard; Public Health Service (PHS); National Oceanic and Atmospheric Administration (NOAA) and Commissioned Officer Corps in order for these departments and agencies and VA to reconcile the amount and/or waiver of service, department and retired pay. These records may also be disclosed as a part of an ongoing computer-matching program to accomplish these purposes. This purpose is consistent with 10 U.S.C. 12316, 38 U.S.C. 5304 and 38 U.S.C. 5701.

17. The amount of pension, compensation, dependency and indemnity compensation, educational assistance allowance, retirement pay and subsistence allowance of any individual identified to VA may be disclosed to any person who applies for such information.

18. Identifying, personal, payment and medical information may be disclosed to a Federal, State, or local government agency at the request of a veteran in order to assist the veteran and ensure that all of the title 38 U.S.C. or other benefits to which the veteran is entitled are received. This information may also be disclosed upon the request from a Federal agency, or to a State or local agency, provided the name and address of the veteran is given beforehand by the requesting agency, in order to assist the veteran in obtaining a non-title 38 U.S.C. benefit to which the veteran is entitled. These records may also be disclosed as part of an ongoing computer-matching program to accomplish this purpose.

19. Any information in this system, which directly affects payment or potential payment of benefits to contesting claimants, including parties claiming an apportioned share of benefits, may be coequally disclosed to each affected claimant upon request from that claimant in conjunction with the claim for benefits sought or received.

20. Any information in this system, such as identifying information, nature of a claim, amount of benefit payments, percentage of disability, income and medical expense information maintained by VA which is used to determine the amount payable to recipients of VA income-dependent benefits and personal information, may be disclosed to the Social Security Administration, upon its official request, in order for that agency to determine eligibility regarding amounts of social security benefits, or to verify other information with respect thereto. These records may also be disclosed as part of an ongoing computer-matching program to accomplish this purpose.

21. VA may disclose an individual's identifying information to an educational institution, training establishment, or other entity which administers programs approved for VA educational assistance in order to assist the individual in completing claims forms, to obtain information necessary to adjudicate the individual's claim, or to monitor the progress of the individual who is pursuing or intends to pursue training at the request of the appropriate institution, training establishment, or other entity administrating approved VA educational programs or at the request of the veteran.

22. Medical data (excluding the name and address of a veteran unless the name and address are furnished by the requestor) may be disclosed to epidemiological and other research facilities approved by the Under Secretary for Health to obtain data from those facilities necessary to assist in medical studies on veterans for the Department of Veterans Affairs or for any research purposes determined to be necessary and proper by the Under Secretary for Health.

23. The name(s) and address(es) of a veteran may be disclosed to another Federal agency or to a contractor of that agency, at the written request of the head of that agency or designee of the head of that agency for the purpose of conducting government research necessary to accomplish a statutory purpose of that agency.

24. Any information in this system relevant to a veteran's claim such as the name, address, the basis and nature of a claim, amount of benefit payment information, medical information and military service and active duty separation information may be disclosed at the request of the veteran to accredited service organizations, VA-approved claims agents and attorneys acting under a declaration of representation so that these individuals can aid veterans in the preparation, presentation and prosecution of claims under the laws administered by VA.

25. Identifying and payment information may be disclosed, upon the request of a Federal agency, to a State or local government agency, to determine a beneficiary's eligibility under programs provided for under Federal legislation and for which the requesting Federal agency has responsibility. These records may also be disclosed as a part of an ongoing computer-matching program to accomplish these purposes. This purpose is consistent with 38 U.S.C. 5701.

26. Any information in this system such as the amount of benefit or disability payments and medical information may be disclosed in the course of presenting evidence to a court, magistrate, or administrative authority, in matters of guardianship, inquests, and commitments, to private attorneys representing veterans rated incompetent in conjunction with issuance of Certificates of Incompetency, and to probation and parole officers in connection with court-required duties.

27. Any information in this system including medical information, the basis and nature of claim, the amount of benefits and personal information may be disclosed to a VA Federal fiduciary or a guardian ad litem in relation to his or her representation of a veteran only to the extent necessary to fulfill the duties of the VA Federal fiduciary or the guardian ad litem.

28. Any relevant information (including changes in disability ratings) may be disclosed to the Department of Justice and United States Attorneys in the defense or prosecution of litigation involving the United States, and to Federal agencies upon their request in connection with review of administrative tort claims and potential tort claims filed under the Federal Tort Claims Act, 28 U.S.C. 2672, the Military Claims Act, 10 U.S.C. 2733, and other similar claims statutes.

29. Any information in this system including the name, social security number, date of birth, delimiting date and remaining entitlement of VA educational benefits, may be disclosed to the Department of Education (ED) upon its official request, or contractor thereof, for specific use by the ED to validate information regarding entitlement to VA benefits which is submitted by applicants who request educational assistance grants from the ED. The ED or contractor thereof will not use such information for any other purpose. These records may also be disclosed as part of an ongoing computer-matching program to accomplish this purpose.

30. VA may, at the request of the individual, disclose identifying information of an individual who is pursuing or intends to pursue training at an educational institution, training establishment, or other entity which administers programs approved for VA educational assistance in order for the VA to obtain sufficient information necessary to pay that individual or the educational or training establishment the correct monetary amounts in an expeditious manner. However, information will not be provided under this routine use to an educational institution, training establishment, or other entity when the request is clearly an attempt by that establishment to seek assistance in collection attempts against the individual.

31. Identifying information and information regarding the induction, reentrance and dismissal of a disabled veteran from a vocational rehabilitation program may be disclosed at the request of the veteran to a VA-approved vocational rehabilitation training establishment to ensure that the trainee receives the maximum benefit from training.

32. Identifying information and information regarding the extent and nature of a veteran's disabilities with respect to any limitations to be imposed on the veteran's vocational programs may be disclosed at the request of the veteran to a VA-approved vocational rehabilitation-training establishment to ensure that the trainee receives the maximum benefit from training.

33. Information regarding the type and amount of training/education received, and the name and address of a veteran, may be disclosed at the request of a veteran to local and State agencies and to prospective employers in order to assist the veteran in obtaining employment or further training.

34. The name, claims folder number and any other information relating to a veteran's or beneficiary's incarceration in a penal institution and information regarding a dependent's right to a special apportionment of the incarcerated individual's VA benefit payment may be disclosed to those dependents who may be eligible for entitlement to such apportionment in accordance with 38 U.S.C. 5313, 5307.

35. The name, claims folder number and any other information relating to an individual who may be incarcerated in a penal institution may, pursuant to an arrangement, be disclosed to penal institutions or to correctional authorities in order to verify information concerning the individual's incarceration status. The disclosure of this information is necessary to determine that individual's continuing eligibility as authorized under 38 U.S.C. 5313, 5307. These records may also be disclosed as part of an ongoing computer-matching program to accomplish this purpose.

36. Identifying information, except for the name and address of a veteran, may be disclosed to a State agency for the purpose of conducting a computer match to determine if income and employment data are being properly reported to VA and to detect the unwarranted payment of benefits under title 38 U.S.C.

37. Identifying, disability, and award (type, amount and reasons for award) information may be released to the DOL (Department of Labor) in order for the DOL to conduct a computer matching program against the `Office of Workers' Compensation Programs Federal Employees Compensation File, DOL/ESA-13, published in 46 FR 12357 on February 13, 1981. This match will permit the DOL to verify a person's eligibility for DOL payments as well as to detect situations where recipients may be erroneously receiving concurrent multiple payments from the DOL and VA, to identify areas where legislative and regulatory amendments directed toward preventing overpayments are needed, and to collect debts owed to the United States Government. This matching program is performed pursuant to the DOL Inspector General's authority under Pub. L. 95-452, section 4(a) to detect and prevent fraud and abuse. This disclosure is consistent with 38 U.S.C. 5701(b)(3).

38. The beneficiary's name, address, social security number and the amount (excluding interest) of any indebtedness waived under 38 U.S.C. 5302, or compromised under 4 CFR part 103 may be disclosed to the Treasury Department, Internal Revenue Service, as a report of income under 26 U.S.C. 61(a)(12).

39. Identifying information, including social security number, except for the name and address, may be disclosed to a Federal, State, County or Municipal agency for the purpose of conducting computer matches to obtain information to validate the entitlement of an individual, who is receiving or has received veterans' benefits under Title 10 or Title 38, United States Code. The name and address of individuals may also be disclosed to a Federal agency under this routine use if required by the Federal agency in order to provide information.

40. Identifying information, including the initials and abbreviated surname, the social security number, the date of birth and coding indicating the category of the individual's records, the degree of disability, the benefit program under which benefits are being paid and the computed amount of VA benefits for a calendar year may be released to the Department of the Treasury, Internal Revenue Service (IRS) in order for IRS to conduct a computer matching program against the Internal Revenue Service's Forms 1040, Schedule R, Credit for the Elderly and the Permanently and Totally Disabled. This match will permit IRS to determine the eligibility for and the proper amount of Elderly and Disabled Credits claimed on IRS Form 1040, Schedule R. This matching program is performed pursuant to the provisions of Internal Revenue Code Section 7602. This disclosure is consistent with 38 U.S.C. 5701(b)(3).

41. Identifying information, such as name, social security number, VA claim number, date and place of birth, etc., in this system may be disclosed to an employer or school having information relevant to a claim in order to obtain information from the employer or school to the extent necessary to determine that eligibility for VA compensation or pension benefits continues to exist or to verify that there has been an overpayment of VA compensation or pension benefits. Any information in this system also may be disclosed to any of the above-entitled individuals or entities as part of ongoing computer matching programs to accomplish these purposes.

42. The name of a veteran, or other beneficiary, other information as is reasonably necessary to identify such individual, and any other information concerning the individual's indebtedness by virtue of a person's participation in a benefits program administered by VA, may be disclosed to the Treasury Department, Internal Revenue Service, for the collection of Title 38, U.S.C. benefit overpayments, overdue indebtedness, and/or costs of services provided to an individual not entitled to such services, by the withholding of all or a portion of the person's Federal income tax refund.

43. Veterans' addresses which are contained in this system of records may be disclosed to the Defense Manpower Data Center, upon its official request, for military recruiting command needs, Department of Defense civilian personnel offices' mobilization studies and mobilization information, debt collection, and Individual Ready Reserve (IRR) Units' locator services.

44. The name, address, VA file number, date of birth, date of death, social security number, and service information may be disclosed to the Defense Manpower Data Center. The Department of Defense will use this information to identify retired veterans and dependent members of their families who have entitlement to Department of Defense benefits but who are not identified in the Defense Enrollment Eligibility Reporting System (DEERS) program and to assist in determining eligibility for Civilian Health and Medical Program of the Uniformed Services (CHAMPUS) benefits. This purpose is consistent with 38 U.S.C. 5701. These records may also be disclosed as part of an ongoing computer-matching program to accomplish this purpose.

45. The name, address, VA file number, social security number, sex of veteran, date(s) of birth of the veteran and dependents, current benefit pay amounts for compensation or pension, pay status, check amount, aid and attendance status, veteran and spouse annual income amounts and type and combined degree of disability will be disclosed to the Department of Health and Human Services. The Social Security Administration will use the data in the administration of the Supplemental Security Income (SSI) payment system as prescribed by Pub. L. 92-603. These records may also be disclosed as part of an ongoing computer-matching program to accomplish these purposes. This purpose is consistent with 38 U.S.C. 5701.

46. The names and current addresses of VA beneficiaries who are identified by finance centers of individual uniformed services of the Department of Defense and the Department of Homeland Security (Coast Guard) as responsible for the payment of Survivor Benefit Plan (SBP) premium payments to be released from this system of records to them upon their official written request for such information for their use in attempting to recover amounts owed for SBP premium payments.

47. This routine use authorizes VA to compile lists of the social security numbers and loan account numbers of all persons with VA-guaranteed and portfolio loans in default, or VA loans on which there has been a foreclosure and the Department paid a claim and provide these records to the Department of Housing and Urban Development for inclusion in its Credit Alert Interactive Voice Response System (CAIVRS). Information included in this system may be disclosed to all participating agencies and lenders who participate in the agencies' programs to enable them to verify information provided by new loan applicants and evaluate the creditworthiness of applicants. These records may also be disclosed as part of an ongoing computer-matching program to accomplish these purposes.

48. Identifying information including social security number, abbreviated surname, first and middle initial, date of birth, sex and claim number, and excluding the full name and address, may be disclosed to the Social Security Administration for the purpose of conducting a computer match to obtain information to validate the social security number maintained in VA records.

49. Any information contained in the files of veterans whose claims were referred to VA Central Office for an advisory opinion concerning their claims that their disabilities were incurred secondary to occupational radiation exposure may be disclosed to the Department of the Navy. The information to be furnished to the Navy would include the medical opinions, dose estimates, advisory opinions, and rating decisions including veterans' names, addresses, VA claim numbers, social security numbers and medical information. The requested information may be disclosed to the Department of the Navy upon receipt of its official written request for such information for its use in the review and assessment of its occupational radiation exposure controls and training.

50. A veteran's claims folder number and folder location may be disclosed to a court of proper jurisdiction that has issued a garnishment order for that veteran under 42 U.S.C. 659 through 660.

51. An individual's identifying and payment information may be disclosed to the educational institution, training establishment, or other entity the individual attends (or attended) if that individual received educational assistance from VA based on training at that educational institution, training establishment, or entity. VA will disclose this information to assist the educational institution, training establishment, or other entity in verifying the individual's receipt of VA educational assistance and to assist the individual in applying for additional financial aid (e.g. student loans).

52. The name and address of a prospective, present, or former accredited representative, claims agent or attorney and any information concerning such individual which is relevant to a refusal to grant access privileges to automated veterans' claims records, or a potential or past suspension or termination of such access privileges may be disclosed to the entity employing the individual to represent veterans on claims for veterans benefits.

53. The name and address of a former accredited representative, claim agent or attorney, and any information concerning such individual, except a veteran's name and home address, which is relevant to a revocation of such access privileges may be disclosed to an appropriate governmental licensing organization where VA determines that the individual's conduct that resulted in revocation merits reporting.

54. A record from this system (other than the address of the beneficiary) may be disclosed to a former representative of a beneficiary to the extent necessary to develop and adjudicate a claim for payment of attorney fees to such representative from past-due benefits under 38 U.S.C 5904(d) and Public Law 109-461 or to review a fee agreement between such representative and the beneficiary for reasonableness under 38 U.S.C. 5904(c)(2) and Public Law 109-461.

55. Disclosure of tax returns and return information received from the Internal Revenue Service (IRS) may be made only as provided by 26 U.S.C. 6103 (an IRS confidentiality statute) also covering any IRS tax return information provided as part of an ongoing computer matching program.

56. Where VA determines that there is good cause to question the legality or ethical propriety of the conduct of a person or organization representing a person in a matter before VA, a record from this system may be disclosed, on VA's initiative, to any or all of the following: (1) Applicable civil or criminal law enforcement authorities and (2) a person or entity responsible for the licensing, supervision, or professional discipline of the person or organization acting as a representative. Name and home addresses of veterans and their dependents will be released on VA's initiative under this routine use only to Federal entities.

57. The name and address of a VA beneficiary, and other information as is reasonably necessary to identify such a beneficiary, who has been adjudicated as incompetent under 38 CFR 3.353, may be provided to the Attorney General of the United States or his/her designee, for use by the Department of Justice in the National Instant Criminal Background Check System (NICS) mandated by the Brady Handgun Violence Prevention Act, Public Law 103-159.

58. Disclosure may be made to the National Archives and Records Administration in record management inspections and such other activities conducted under Authority of Title 44 U.S.C.

59. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its on initiative, may disclose records in this system of records in legal proceedings before a court or administrative body after determining that the disclosure of records to the court or administrative body is a use of the information contained in the records that is compatible with the purpose for which VA collected the records.

60. Disclosure of relevant information may be made to individuals, organizations, public or private agencies, or other entities with whom VA has a contract or agreement or where there is a subcontract to perform such services as VA may deem practicable for the purposes of laws administered by VA, in order for the contractor or subcontractor to perform the services of the contract or agreement.

61. Disclosure to other Federal agencies may be made to assist such agencies in preventing and detecting possible fraud, waste, overpayment, or abuse by individuals in their operations and programs as well as identifying areas where legislative and regulatory amendments directed toward preventing overpayments. These records may also be disclosed as part of an ongoing computer-matching program to accomplish this purpose.

62. VA may on its own initiative, disclose any information or records to appropriate agencies, entities, and persons when (1) VA suspects or has confirmed that the integrity or confidentiality of information in the system of records has been compromised; (2) VA has determined that as a result of the suspected or confirmed compromise, there is a risk of embarrassment or harm to the reputations of the record subjects, harm to the economic or property interests, identity theft or fraud, or harm to the programs (whether maintained by VA or another agency or entity) that rely upon the potentially compromised information; and (3) the disclosure is to agencies, entities, or persons whom VA determines are reasonably necessary to assist or carry out the VA's efforts to respond to the suspected or confirmed compromise and prevent, minimize, or remedy such harm. This routine use permits disclosures by VA to respond to a suspected or confirmed data breach, including the conduct of any risk analysis or provision of credit protection services as provided in 38 U.S.C. 5724, as the terms are defined in 38 U.S.C. 5727.

63. VA may disclose information to other Federal Agencies including, but not limited to, identifying information, payment information, and vocational objectives about a veteran or service member who is receiving or has received benefits under the Vocational Rehabilitation program to be used in data analysis and development of performance measures.

64. Any information contained in this system may be disclosed by VA, as deemed necessary, to DoD for use for determinations required by DoD. VA will routinely use the information to conduct medical evaluations needed to produce VA disability ratings and to promulgate subsequent claims for benefits under Title 38 U.S.C.

POLICIES AND PRACTICES FOR STORING, RETRIEVING, ACCESSING, RETAINING, AND DISPOSING OF RECORDS IN THE SYSTEM:

STORAGE:

The Benefits Delivery Network (BDN), Virtual VA, Corporate WINRS, and Veterans' Service Network (VETSNET) are data telecommunication terminal systems. Records (or information contained in records) are maintained on paper documents in claims folders (C-folders), vocational rehabilitation folders, electronic folders (e.g., Virtual VA and TIMS Files), and on automated storage media (e.g., microfilm, microfiche, magnetic tape and disks). Such information may be accessed through BDN, Virtual VA, Corporate WINRS, and VETSNET terminals. BDN, Virtual VA, Corporate WINRS, and VETSNET terminal locations include VA Central Office, regional offices, VA health care facilities, Veterans Integrated Service Network (VISN) offices, Department of Defense Finance and Accounting Service Centers and the U.S. Coast Guard Pay and Personnel Center. Remote on-line access is also made available to authorized remote sites, representatives of claimants and to attorneys of record for claimants. A VA claimant must execute a prior written consent or a power of attorney authorizing access to his or her claims records before VA will allow the representative or attorney to have access to the claimant's automated claims records. Access by representatives and attorneys of record is to be used solely for the purpose of assisting an individual claimant whose records are accessed in a claim for benefits administered by VA. Information relating to receivable accounts owed to VA, designated the Centralized Accounts Receivable System (CARS), is maintained on magnetic tape, microfiche and microfilm. CARS is accessed through a data telecommunications terminal system at St. Paul, Minnesota.

RETRIEVABILITY:

File folders, whether paper or electronic, are indexed by name of the individual and VA file number. Automated records are indexed by name, VA file number, payee name and type of benefit. Automated Records of employee productivity cannot be accessed. At the conclusion of a monthly reporting period, the generated listing is indexed by employee BDN identification number. Records in CAIVRS may only be retrieved by social security number.

SAFEGUARDS:

1. Physical Security:

(a) Access to working spaces and claims folder file storage areas in VA regional offices and centers is restricted to VA employees on a need-to-know basis. Generally, file areas are locked after normal duty hours and the offices and centers are protected from outside access by the Federal Protective Service or other security personnel. Employee claims folder records and claims folder records of public figures are stored in separate locked files. Strict control measures are enforced to ensure that access to and disclosure from these claims folder records are limited to a need-to-know basis.

(b) Access to BDN, Virtual VA, Corporate WINRS, and VETSNET data telecommunication networks are by authorization controlled by the site security officer who is responsible for authorizing access to the BDN, Virtual VA and VETSNET by a claimant's representative or attorney approved for access in accordance with VA regulations. The site security officer is responsible for ensuring that the hardware, software and security practices of a representative or attorney satisfy VA security requirements before granting access. The security requirements applicable to the access of automated claims folders by VA employees also apply to the access of automated claims folders by claimants' representatives or attorneys. The security officer is assigned responsibility for privacy-security measures, especially for review of violation logs, information logs and control of password distribution, including password distribution for claimants' representatives.

(c) Access to data processing centers is generally restricted to center employees, custodial personnel, Federal Protective Service and other security personnel. Access to computer rooms is restricted to authorized operational personnel through electronic locking devices. All other persons provided access to computer rooms are escorted.

(d) Employee production records are identified by the confidential BDN and VETSNET employee identification number, and are protected by management/supervisory personnel from unauthorized disclosure in the same manner as other confidential records maintained by supervisors.

2. BDN, Virtual VA and VETSNET System Security:

(a) Usage of the BDN, Virtual VA, Corporate WINRS and VETSNET systems is protected by the usage of “login” identification passwords and authorized function passwords. The passwords are changed periodically. These same protections apply to remote access users.

(b) At the data processing centers, identification of magnetic tapes and disks containing data is rigidly enforced using labeling techniques. Automated storage media, which are not in use, are stored in tape libraries, which are secured in locked rooms. Access to programs is controlled at three levels: Programming, auditing and operations. Access to the data processing centers where HUD maintains CAIVRS is generally restricted to center employees and authorized subcontractors. Access to computer rooms is restricted to center employees and authorized operational personnel through electronic locking devices. All other persons granted access to computer rooms are escorted. Files in CAIVRS use social security numbers as identifiers. Access to information files is restricted to authorized employees of participating agencies and authorized employees of lenders who participate in the agencies' programs. Access is controlled by agency distribution of passwords. Information in the system may be accessed by use of a touch-tone telephone by authorized agency and lender employees on a “need-to-know” basis.

RETENTION AND DISPOSAL:

Compensation, pension, and vocational rehabilitation claims folders are retained at the servicing regional office until they are inactive for three years, after which they are transferred to the Records Management Center (RMC) for the life of the veteran. Official legal documents (e.g., birth certificates, marriage licenses) are returned to the claimant after copies are made for the claimant's file. At the death of the veteran, these records are sent to the Federal Records Center (FRC), and maintained by the National Archives and Records Administration (NARA) in accordance with NARA policy. Some claims folders are electronically imaged; in which case, the electronic folder is maintained in the same manner as the claims folder. Once a file is electronically imaged and accepted by VBA, its paper contents (with the exception of documents that are the official property of the Department of Defense, and official legal documents), are destroyed in accordance with Records Control Schedule VB-1 Part 1 Section XIII, as authorized by NARA. Documents that are the property of the Department of Defense are either stored at the RMC, or transferred to NARA and maintained in accordance with NARA policy.

Vocational Rehabilitation counseling records are maintained until the exhaustion of a veteran's maximum entitlement or upon the exceeding of a veteran's delimiting date of eligibility (generally, ten or twelve years from discharge or release from active duty), whichever occurs first, and then destroyed. Automated storage media containing temporary working information are retained until a claim is decided, and then destroyed. All other automated storage media are retained and disposed of in accordance with disposition authorization approved by NARA.

Education electronic folders are retained at the servicing Regional Processing Office. Education folders may be destroyed in accordance with the times set forth in the Veterans Benefits Administration Records Management, Records Control Schedule VB-1, Part 1, Section VII, as authorized by NARA.

Employee productivity records are maintained for two years after which they are destroyed by shredding or burning. File information for CAIVRS is provided to HUD by VA on magnetic tape. After information from the tapes has been read into the computer the tapes are returned to VA for updating. HUD does not keep separate copies of the tapes.

SYSTEM MANAGER(S) AND ADDRESS:

Director, Compensation and Pension Service (21), 810 Vermont Avenue, NW., VA Central Office, Washington, DC 20420.

Director, Education Service (22), 810 Vermont Avenue, NW., VA Central Office, Washington, DC 20420.

Director, Vocational Rehabilitation and Employment Service (28), 810 Vermont Avenue, NW., VA Central Office, Washington, DC 20420.

NOTIFICATION PROCEDURE:

An individual who wishes to determine whether a record is being maintained in this system under his or her name or other personal identifier, or who wants to determine the contents of such record, should submit a written request or apply in person to the nearest VA regional office or center. Address locations are listed in VA Appendix 1 at the end of this document. VA employees wishing to inquire whether the system of records contains employee productivity information about themselves should contact their supervisor at the regional office or center of employment.

RECORD ACCESS PROCEDURES:

Individuals seeking information regarding access to and contesting of VA records may write, call or visit the nearest VA regional office. Address locations are listed in VA Appendix 1.

CONTESTING RECORD PROCEDURES:

(See Record access procedures above.)

RECORD SOURCE CATEGORIES:

Veterans, service members, reservists, spouses, surviving spouses, dependents and other beneficiaries of the veteran, accredited service organizations, VA-supervised fiduciaries (i.e., VA Federal fiduciaries, court-appointed fiduciaries), military service departments, VA medical facilities and physicians, private medical facilities and physicians, education and rehabilitation training establishments, State and local agencies, other Federal agencies, State, local, and county courts and clerks, Federal, State, and local penal institutions and correctional facilities, other third parties and other VA records.

VA Appendix 1

VA Facilities

Patients should call the telephone numbers listed to obtain clinic hours of operation and services.

For more information or to search for a facility near you by zip code, visit http://www1.va.gov/directory/guide/home.asp?isFlash=1.

Please send address and telephone number corrections to: Department of Veterans Affairs, Federal Benefits for Veterans and Dependents (80D), 810 Vermont Ave., NW., Washington, DC 20420.

ALABAMA

VA Medical Centers

Birmingham 35233 (700 S. 19th St., 205-933-8101 or 800-872-0328).

Montgomery 36109-3798 (215 Perry Hill Rd., 334-272-4670 or 800-214-8387).

Tuscaloosa 35404 (3701 Loop Rd., East, 205-554-2000 or 888-269-3045).

Tuskegee 36083-5001 (2400 Hospital Rd., 334-727-0550 or 800-214-8387).

Clinics

Bessemer 32055 (975 9th Ave., SW-Suite 400 at UAB West Medical Center West Bessemer, 205-428-3495).

Dothan 36301 (2020 Alexander Dr., 334-673-4166).

Dothan Mental Health Center 36301 (3753 Ross Clark Cir Ste 4, 334-678-1903).

Gadsden 35906 (206 Rescia Ave., 256-413-7154).

Huntsville 35801 (301 Governor's Dr., 256-535-3100).

Jasper 35501 (3400 Highway 78 East—Suite #215, 205-221-7384).

Madison 35758 (8075 Madison Blvd., Suite 101, 256-772-6220).

Mobile 36604 (1504 Springhill Ave., 251-219-3900).

Oxford 36203 (96 Ali Way Creekside South, 256-832-4141).

Sheffield 35660 (Florence Shoals Area Clinic: 422 DD Cox Blvd., 256-381-9055).

Regional Office

Montgomery 36109 (345 Perry Hill Rd., statewide 1-800-827-1000).

Vet Centers

Birmingham 35233 (1500 5th Ave. S., 205-731-0550).

Mobile 36606 (2577 Government Blvd., 251-478-5906).

National Cemeteries

Birmingham-Montevallo 35115 (731 Middle St., 205-665-9039).

Fort Mitchell 36856 (553 Hwy. 165, Fort Mitchell, 334-855-2184).

Mobile 36604 (1202 Virginia St., 850-453-4846).

ALASKA

VA Medical Center

Anchorage 99508-2989 (2925 DeBarr Rd., 888-353-7574/907-257-4700).

Clinics

Fort Wainwright 99703 (Bldg 4076, Neeley Rd., Room 1J-101, Mailing Address: P.O. Box 74570, Fairbanks, AK 99707, 907-361-6370).

Kenai 99669 (11312 Kenai Spur Highway, #39, 907-283-2231).

Regional Office

Anchorage 99508-2989 (2925 De Barr Rd., statewide 1-800-827-1000).

Benefits Office

Juneau 99802 (P.O. Box 20069, 907-586-7472).

Vet Centers

Anchorage 99508 (4201 Tudor Centre Dr., Suite 115, 907-563-6966).

Fairbanks 99701 (540 4th Ave., Suite 100, 907-456-4238).

Kenai 99669 (Red Diamond Ctr., Bldg. F, #4, 43335 Kalifornsky Beach Rd., 907-260-7640).

Wasilla 99654 (851 E. West Point Dr., Suite 111, 907-376-4318).

National Cemeteries

Fort Richardson 99505-5498 (Building 997, Davis Hwy., 907-384-7075).

Sitka 99835 (803 Sawmill Creek Rd., 907-384-7075).

AMERICAN SAMOA

Clinic

Pago Pago 96799 (Fiatele Teo Army Reserve Bldg, Mailing Address: PO Box 1005, Pago Pago, AS 96799, 684-699-3730).

Benefits Office

Pago Pago 96799 (PO Box 1005, 684-633-5073).

ARIZONA

VA Medical Centers

Prescott 86313 (500 N. Hwy 89, 928-445-4860 or 800-949-1005).

Tucson 85723 (3601 South 6th Avenue, 520-792-1450 or 800-470-8262).

Phoenix 85012 (650 E. Indian School Rd., 602-277-5551 or 800-554-7174).

Clinics

Anthem 85086 (Anthem Medical Plaza, 3618 W. Anthem Way, Building D, #120, 623-551-6092).

Bellemont 86015-6196 (P.O. Box 16196, Camp Navajo Army Depot, 928-226-1056).

Buckeye 85326 (306 E. Monroe, 623-386-4814).

Casa Grande 85222 (900 E. Florence Blvd, Suites H & I, 520-629-4900).

Cottonwood 86326 (203 Candy Lane Building 5B, 928-649-1523 or 1532).

Globe 85501 (5860 S. Hospital Dr., Suite 11, 928-425-0027).

Green Valley 85614 (380 W. Hermosa Drive #140, 520-629-4900 or 800-470-8262).

Kingman 86401 (1726 Beverly Ave., 928-692-0080 or 928-445-4860x6830).

Lake Havasu City 86403 (2035 Mesquite, Suite E, 928-680-0090).

Mesa 85212-6033 (6950 E. Williams Field Road, Bldg. 23, 602-222-6568/3315).

Payson 85541 (1106 N. Beeline Highway, 928-472-3148).

Safford 85546 (711 South 14th Ave., 520-629-4900).

Show Low 85901 (2450 Show Low Lake Rd, Suite 1, 928-532-1069).

Sierra Vista 85635 (101 Coronado Dr., Suite A, 520-792-1450).

Sun City 85351 (10147 Grand Ave., Suite C1, 602-222-2630) Tuscon 85741 (2945 W. Ina Rd., 520-629-4900).

Yuma 85365 (2555 E. Gila Ridge Rd., 520-629-4900).

Regional Office

Phoenix 85012 (3333 N. Central Ave., statewide 1-800-827-1000).

Vet Centers

Phoenix 85012 (77 E. Weldon Ave., Suite 100, 602-640-2981).

Phoenix-East Valley 85202 (1303 S. Longmore, Suite 5, Mesa, 480-610-6727).

Prescott 86303 (161 S. Granite St., Suite B, 928-778-3469).

Tucson 85719 (3055 N. 1st Ave., 520-882-0333).

National Cemeteries

Nat. Mem. Cem. of AZ 85024 (23029 N. Cave Creek Rd., Phoenix, 480-513-3600).

Prescott 86301 (500 Hwy. 89 N., 480-513-3600).

ARKANSAS

VA Medical Centers

Fayetteville 72703 (1100 N. College Ave., 479-443-4301 or 800-691-8387).

Little Rock 72205-5484 (4300 West 7th St., 501-257-1000).

North Little Rock 72114-1706 (2200 Fort Roots Dr., 501-257-1000).

Clinics

El Dorado 71730 (460 W Oak St, 870-862-2489).

Ft Smith 72917 (1500 Dodson Ave., Sparks Med., 479-709-6850 or 1-877-604-0798).

Harrison 72601 (707 N Main St., 870-741-3592).

Hot Springs 71913 (1661 Airport Rd, Suite E, 501-881-4112).

Jonesboro 72401 (223 E Jackson, 870-972-0063).

Mena 71953 (1706 Hwy. 71 N, 479-394-4800).

Mountain Home 72653 (#10 Medical Plaza, 870-424-4109).

Paragould 72450 (1101 Morgan St., 870-236-9756).

Pine Bluff 71603 (4010 Old Warren Road, 870-541-9300).

Texarkana 71854 (910 Realtor Ave., 870-216-2242).

Regional Office

North Little Rock 72114 (2200 Fort Roots Dr., Bldg. 65, statewide 1-800-827-1000).

Vet Center

North Little Rock 72114 (201 W. Broadway, Suite A, 501-324-6395).

National Cemeteries

Fayetteville 72701 (700 Government Ave., 479-444-5051).

Fort Smith 72901 (522 Garland Ave., 479-783-5345).

Little Rock 72206 (2523 Confederate Blvd., 501-324-6401).

CALIFORNIA

VA Medical Centers

Fresno 93703 (2615 E. Clinton Ave., 559-225-6100 or 888-826-2838).

Livermore 94550 (4951 Arroyo Rd., 925-373-4700).

Loma Linda 92357 (11201 Benton St., 909-825-7084 or 800-741-8387).

Long Beach 90822 (5901 E. 7th St., 562-826-8000 or 888-769-8387).

Los Angeles 90073 (11301 Wilshire Blvd., 310-478-3711 or 800-952-4852).

Sacramento 95655 (10535 Hospital Way, Mather, 800-382-8387 or 916-366-5366).

Menlo Park 94025 (795 Willow Rd., 650-416-9997).

Palo Alto 94304-1290 (3801 Miranda Avenue, 650-493-5000 or 800-455-0057).

San Diego 92161 (3350 La Jolla Village Drive, 858-552-8585 or 800-331-8387).

San Francisco 94121-1598 (4150 Clement Street, 415-221-4810 or 800-733-0502).

Clinics

Anaheim 92801 (Professional Center, 3rd Floor, #303, 1801 W. Romneya Dr., 714-780-5400).

Atwater 95301-5140 (3605 Hospital Road, Suite D, 209-381-0105).

Auburn 95603 (11985 Heritage Oaks Place, 530-889-0872 or 888-227-5404).

Bakersfield 93301 (1801 Westwind Dr., 661-632-1800).

Brawley 92227 (Imperial Valley, 528 G St., 760-344-9085).

Capitola 95010-3906 (1350 N. 41st St., Suite 102, 831-464-5519).

Chico 95926 (280 Cohasset Rd., 800-382-8387 or 530-879-5000).

Chula Vista 91910 (South Bay, 835 3rd Ave., 619-409-1600).

City of Commerce 90040 (East Los Angeles, 5426 E. Olympic Blvd., 323-725-7557).

Corona 92879 (800 Magnolia Ave., #101, 951-817-8820).

Escondido 92025 (815 E. Pennsylvania Ave., 760-466-7020).

Eureka 95501 (714 F St., 707-442-5335).

Fairfield 94535 (103 Bodin Cir, Travis Air Force Base, 800-382-8387 or 707-437-1800).

French Camp 95231 (Stockton Clinic, 7777 South Freedom Dr., 209-946-3400).

Gardena 90247 (1251 Redondo Beach Blvd, 3rd Floor, 310-851-4705).

Lancaster 93536 (Antelope Valley, 547 West Lancaster Blvd., 661-729-8655 or 800-515-0031).

Long Beach 90806 (Villages at Cabrillo: 2001 River Ave, Bldg 28, 562-388-8000).

Los Angeles 90012 (351 East Temple St., 213-253-2677).

Los Angeles 90073 (West LA Ambulatory Care, 11301 Wilshire Blvd., 310-268-3526).

Lynwood 90262 (3737 Martin Luther King Blvd. Suite 515, 310-537-6825).

Martinez 94553 (Clinic and Center for Rehabilitation & Extended Care, 150 Muir Rd., 800-382-8387 or 925-372-2000).

Modesto 95350 (1524 McHenry Ave., 209-557-6200).

Monterey 93955 (3401 Engineer Lane, Seaside, 831-883-3800).

North Hills 91343: (Sepulveda Clinic and Nursing Home, 16111 Plummer St., 818-891-7711 or 800-516-4567).

Oakland 94626 (Mental Health Clinic: 2505 West 14th St., Oakland Army Base, 800-382-8387 or 510-587-3400).

Oakland 94612 (2221 Martin Luther King Jr. Way, 800-382-8387 or 510-267-7800).

Oxnard 93030 (250 W. Citrus Grove Ave., Ste 150, 805-983-6384).

Palm Desert 92211 (41-865 Boardwalk, Suite 103, 760-341-5570).

Redding 96002 (351 Hartnell Ave., 800-382-8387 or 530-226-7555).

Sacramento 95655 (Mental Health Clinic at Mather, 10633 Grissom Rd., 800-382-8387 or 916-366-5420).

Sacramento 95652 (McClellan Dental Clinic, 5401 Arnold Ave., 800-382-8387 or 916-561-7800).

Sacramento 95652 (McClellan Outpatient Clinic, 5342 Dudley Blvd., 800-382-8387 or 916-561-7400).

San Bruno 9406 (1001 Sneath Lane, Suite 300, Third Floor, 650-615-6000).

San Diego 92108 (Mission Valley, 8810 Rio San Diego Dr., 619-400-5000).

San Francisco 94107 (Downtown Clinic, 401 3rd St., 415-551-7300).

San Gabriel 91776 (Pasadera, 420 W. Las Tunas Drive, 626-289-5973).

San Jose 95119 (80 Great Oaks Boulevard, 408-363-3011).

San Luis Obispo 93401 (Pacific Med. Plaza, 1288 Morro St., Ste.200, 805-543-1233).

Santa Ana 92704 (Bristol Medical, 2740 S. Bristol St., 1st Floor, #101, 714-825-3500).

Santa Barbara 93110 (4440 Calle Real, 805-683-1491).

Santa Fe Springs 90670 (10210 Orr & Day Rd., 562-864-5565).

Santa Maria 93454 (1550 East Main St., 805-354-6000).

Santa Rosa 95404 (3315 Chanate Rd., 707-570-3855 or 570-3800) Seaside 93955 (Monterey Clinic, 3401 Engineering Lane, 831-883-3800).

Sonora 95370 (19747 Greenley Rd., 209-588-2600).

Stockton 95231 (500 West Hospital Rd., 209-946-3400).

Sun City 92586 (28125 Bradley Road, Suite 130, 951-672-1931).

Tulare 93274 (VA South Valley Clinic, 1050 N. Cherry St., 559-684-8703).

Ukiah 95482 (630 Kings Court 707-468-7700).

Upland 91786 (1238 E. Arrow Highway, No. 100, 909-946-5348).

Vallejo 94592 (Mare Island Clinic, 201 Walnut Ave., 800-382-8387 or 707-562-8200).

Victorville 92392 (12138 Industrial Boulevard, Suite 120, 760-951-2599).

Vista 92083 (1840 West Drive, 760-643-2000).

Regional Offices

Los Angeles 90024 (Fed. Bldg., 11000 Wilshire Blvd., serving counties of Inyo, Kern, Los Angeles, San Bernardino, San Luis Obispo, Santa Barbara and Ventura, statewide 1-800-827-1000).

Oakland 94612 (1301 Clay St., Rm. 1300 North, serving all CA counties not served by the Los Angeles, San Diego, or Reno VA Regional Offices, 1-800-827-1000).

San Diego 92108 (8810 Rio San Diego Dr., serving Imperial, Orange, Riverside and San Diego, statewide 1-800-827-1000). The counties of Alpine, Lassen, Modoc, and Mono are served by the Reno, NV, Regional Office.

Benefits Office

Sacramento 95827 (10365 Old Placerville Rd., 916-364-6500).

Vet Centers

Anaheim 92805 (859 S. Harbor Blvd., 714-776-0161).

Chico 95926 (280 Cohasset Rd., Suite 100, 530-899-8549).

Concord 94520 (1899 Clayton Rd., Suite 140, 925-680-4526).

Corona 92879 (800 Magnolia Ave., 110, 951-734-0525).

East Los Angeles 90022 (5400 E. Olympic Blvd., 140, 323-728-9966).

Eureka 95501 (2830 G St., Suite A, 707-444-8271).

Fresno 93726 (3636 N. 1st St., Suite 112, 559-487-5660).

Gardena 90247 (1045 W. Redondo Beach Blvd., 150, Gardena, 310-767-1221).

West Los Angeles 90230 (5730 Uplander Way, Suite 100, Culver City, 310-641-0326).

Modesto 95351 (1219 N. Carpenter Rd., #11 & 12, 209-527-1359 or 209-527-5961).

Oakland 94612 (1504 Franklin St., 200, 510-763-3904).

Redwood City 94062 (2946 Broadway St., 650-299-0672).

Rohnert Park 94928 (6225 State Farm Dr., Suite 101, 707-586-3295).

Sacramento 95825 (1111 Howe Ave., Suite 390, 916-566-7430).

San Bernardino 92408 (155 West Hospitality Lane, Suite 140, 909-890-0797).

San Diego 92103 (2900 6th Ave., 619-294-2040).

San Francisco 94102 (505 Polk St., 415-441-5051).

San Jose 95112 (278 N. 2nd St., 408-993-0729).

San Marcos 92069 (1 Civic Center Dr., Suite 140, 760-744-6914).

Santa Cruz 95010 (1350 41st Ave., Suite 102, 831-464-4575).

Sepulveda 91343 (9737 Haskell Ave., 818-892-9227).

Ventura 93001 (790 E. Santa Clara, Suite 100, 805-585-1860).

National Cemeteries

Fort Rosecrans 92106 (P.O. Box 6237, Point Loma, San Diego, 619-553-2084).

Golden Gate 94066 (1300 Sneath Ln., San Bruno, 650-589-7737).

Los Angeles 90049 (950 South Sepulveda Blvd., 310-268-4675).

Riverside 92518 (22495 Van Buren Blvd., 951-653-8417).

Sacramento Valley VA 95620 (5810 Midway Rd., Dixon, 707-693-2460).

San Francisco 94129 (1 Lincoln Blvd., Presidio of San Francisco, 650-589-7737).

San Joaquin Valley 95322 (32053 West McCabe Rd., Santa Nella, 209-854-1040).

COLORADO

Medical Centers

Denver 80220 (1055 Clermont Street, 303-399-8020 or toll free 888-336-8262).

Grand Junction 81501 (2121 North Avenue, 970-242-0731 or toll free 866-206-6415).

Health Administration Center

Denver 80209 (3773 Cherry Creek North Dr., 303-331-7500).

Clinics

Alamosa 81101 (San Luis Valley Clinic/Sierra Blanca Med. Ctr. 622 Del Sol Drive, 719-587-6800 or toll free 1-866-659-0930).

Aurora 80045 (13001 East 17th Place, Bld. 500, 2nd Floor, West Wing, 303-724-0190).

Burlington 80807 (1177 Rose Avenue, 719-346-5239).

Colorado Springs 80905 (25 North Spruce St., 719-327-5660 or 800-278-3883).

Craig 81625 (551 Tucker Street, 970-824-9721 or 970-242-0731).

Durango 81301 (400 S. Camino Del Rio, 970-247-2214).

Ft. Collins 80524 (1100 Poudre River Drive, 970-224-1550).

Greeley 80631 (2020 16th St., 970-313-0027).

La Junta 81050 (1100 Carson Ave., Suite 104, 719-383-5195).

Lakewood 80225 (155 Van Gordon St., Suite 395, 303-914-2680).

Lamar 81052 (High Plains Community Health Center 201 Kendall Dr., 719-336-5972).

Montrose 81401 (4 Hillcrest Plaza Way, 970-249-7791 or 970-242-0731).

Pueblo 81008 (4112 Outlook Boulevard, 719-553-1000 or 800-369-6748).

Regional Office

Denver 80225 (Mailing Address PO Box 25126. Physical Address 155 Van Gordon St., Lakewood, 80228, statewide 1-800-827-1000).

Vet Centers

Boulder 80302 (2336 Canyon Blvd., Suite 103, 303-440-7306).

Colorado Springs 80903 (416 E. Colorado Ave., 719-471-9992).

Denver 80230 (7465 E. First Ave., Ste. B, 303-326-0645).

Grand Junction 81505 (2472 F. Rd. Unit 16, 970-245-4156).

National Cemeteries

Fort Logan 80236 (4400 W. Kenyon Ave., Denver, 303-761-0117).

Fort Lyon 81504 (15700 County Road HH, Las Animas, 303-761-0117).

CONNECTICUT

VA Medical Centers

Newington 06111 (555 Willard Ave., 860-666-6951).

West Haven 06516 (950 Campbell Avenue, 203-932-5711).

Clinics

Danbury 06810 (7 Germantown Rd., Suite 2B, 203-798-8422).

New London 06320 (Shaw's Cove Four, 860-437-3611).

Stamford 06905 (1275 Summer St, Suite 102, 203-325-0649).

Waterbury 06706 (95 Scovill St., 203-465-5292).

Windham 06226 (Windham Hospital, 96 Mansfield St., 860-450-7583).

Winsted 06908 (Winsted Health Center, 115 Spencer St., 860-738-6985).

Regional Office

Hartford (Bldg 2E—RM 5137, 555 Willard Ave.; Newington, 06111-2693, statewide 1-800-827-1000).

Vet Centers

Wethersfield 06109 (30 Jordan Lane, 860-563-2320).

Norwich 06360 (2 Cliff St., 860-887-1755).

West Haven 06516 (141 Captain Thomas Blvd., 203-932-9899).

DELAWARE

VA Medical Center

Wilmington 19805 (1601 Kirkwood Highway, 302-994-2511 or 800-461-8262).

Clinics

Millsboro 19966 (214 W. DuPont Highway, 302-934-0195).

Seaford 19973 (121 S Front St., 302-628-8324).

Regional Office

Wilmington 19805 (1601 Kirkwood Hwy., local, 302-994-2511).

Vet Center

Wilmington 19805 (1601 Kirkwood Hwy., Bldg. 3, 302-994-1660).

DISTRICT OF COLUMBIA

VA Medical Center

Washington 20422 (50 Irving Street, NW., 202-745-8000 or 888-553-0242).

Clinic

Washington 20032 (820 Chesapeake Street, SE., 202-745-8685).

Regional Office

Washington, D.C., 20421 (1722 I St., N.W., local, 1-800-827-1000).

Vet Center

Washington, DC 20011 (1250 Taylor St., NW., 202-726-5212).

FLORIDA

VA Medical Centers

Bay Pines 33744 (10000 Bay Pines Blvd., Mailing Address P.O. Box 5005, Bay Pines, FL 33744, 727-398-6661/888-820-0230).

Gainesville 32608-1197 (1601 SW. Archer Rd., 352-376-1611 or 800-324-8387).

Lake City 32025-5808 (619 S. Marion Avenue, 386-755-3016 or 800-308-8387).

Miami 33125 (1201 N.W. 16th St., 305-575-7000 or 888-276-1785).

Orlando 32803 (5201 Raymond St., 407-629-1599 or 800-922-7521).

Tampa 33612 (13000 Bruce B. Downs Blvd., 813-972-2000 or 888-716-7787).

West Palm Beach 33410-6400 (7305 N. Military Trail, 561-422-8262 or 800-972-8262).

Clinics

Boca Raton 33433 (901 Meadows Rd., 561-416-8995).

Brooksville 34613 (14540 Cortez Blvd., Suite 200, 352-597-8287).

Coral Springs 33065 (9900 West Sample Road, Suite 100, 954-575-4940).

Daytona Beach 32114 (551 National Health Care Dr., 386-323-7500).

Deerfield Beach 33442 (2100 S.W. 10th St., 954-570-5572).

Delray Beach 33445 (4800 Linton Blvd., Building E, Suite 300, 561-495-1973).

Dunedin 34698 (1721 Main St., 727-734-5276).

Ellenton 34222 (4333 U.S. Highway 301 North, 941-721-0649).

Fort Myers 33916 (3033 Winkler Extension, 239-939-3939).

Ft. Pierce 34950 (727 North US 1, 772-595-5150).

Hollywood 33021 (3702 Washington St., Suite 201, 954-986-1811).

Hollywood 33024 (Pembroke Pines, 7369 W. Sheridan St., Suite 102, 954-894-1668).

Homestead 33030 (950 Krome Avenue, Suite 401, 305-248-0874).

Jacksonville 32206 (1833 Boulevard, 904-232-2751).

Key Largo 33037 (105662 Overseas Highway, 305-451-0164).

Key West 33040 (1300 Douglas Circle, Building L-15, 305-293-4609).

Kissimmee 34741 (2285 North Central Avenue, 407-518-5004).

Lakeland 33803 (3240 S. Florida Avenue, 863-701-2470) Lecanto 34461 (2804 W. Marc Knighton Ct., Suite A, 352-746-8000).

Leesburg 34748 (711 W. Main St., 352-435-4000).

Miami 33135 (Healthcare for Homeless Vets., 1492 West Flagler St., 305-541-5864).

Miami 33135 (Substance Abuse Clinic, 1492 West Flagler St., #101, 305-541-8435).

Naples 34104 (2685 Horseshoe Drive—Suite 101, 239-659-9188).

New Port Richey 34654 (9912 Little Road, 727-869-4100).

Oakland Park 33334-3496 (Ft Lauderdale, 5599 North Dixie Highway, 954-771-2101).

Ocala 34470 (1515 Silver Springs Blvd., 352-369-3320).

Okeechobee 34972 (1201 N. Parrot Avenue, 863-824-3232).

Panama City Beach 32407 (6703 West Highway 98, 850-636-7000).

Panama City Beach 32407-7018 (Naval Support Activity-Panama City, 101 Vernon Ave #387, 850-636-7000).

Pembroke Pines (Pembroke Pines, 7369 W. Sheridan St., Suite 102, 954-894-1668).

Pensacola 32503 (312 Kenmore Road, 850-476-1100).

Port Charlotte 33952 (4161 Tamiami Trail Unit 4, 941-235-2710).

Sanford 32771 (1403 Medical Plaza Drive, Suite 109, 407-323-5999).

Sarasota 34233 (5682 Bee Ridge Rd., Suite 100, 941-371-3349).

Sebring 33870 (3760 U.S. Highway 27 South, 863-471-6227, Mental Health Phone 863-314-0325).

St. Augustine 32086 (1955 U.S. 1 South, Suite 200, 904-829-0814 or 866-401-8387).

St. Petersburg 33711 (3420 8th Avenue South, 727-322-1304).

Stuart 34997 (3501 S E Willoughby Boulevard, 772-288-0304).

Tallahassee 32308 (1607 St. James Ct., 850-878-0191).

The Villages 32162 (Laurel Lake Prof. Park, 1950 Laurel Manor Dr., Bldg. 240, 352-205-8900).

Vero Beach 32960 (372 17th Street, 772-299-4623).

Viera 32940 (2900 Veterans Way, 321-637-3788).

Zephyrhills 33541 (6937 Medical View Ln., 813-780-2550).

Regional Office

St. Petersburg 33708 (mailing address: P.O. Box 1437, 33731; physical address: 9500 Bay Pines Blvd., statewide 1-800-827-1000).

Benefits Offices

Fort Lauderdale 33301 (VR&E, 299 East Broward Blvd., Room 324, 1-800-827-1000).

Jacksonville 32256 (VR&E, 7825 Baymeadows Way, Suite 120-B, 1-800-827-1000).

Orlando 32801 (1000 Legion Pl., VRE-Suite 1500, C&P-Suite 1550, 1-800-827-1000).

Pensacola 32503-7492 (C&P, 312 Kenmore Rd., Rm. 1G250, 1-800-827-1000).

West Palm Beach 33410 (C&P, 7305 North Military Tr., Suite 1A-167, 1-800-827-1000).

Vet Centers

Ft. Lauderdale 33304 (713 N.E. 3rd Ave., 954-356-7926).

Gainesville 32607 (105 NW 75th St., Suite 2, 352-331-1408).

Jacksonville 32202 (300 East State St., 904-232-3621).

Melbourne 32935 (2098 Sarno Rd., 321-254-3410).

Miami 33122 (8280 NW 27th St., Suite 511, 305-859-8387).

Orlando 32822 (5575 S. Semoran Blvd., Suite 36, 407-857-2800).

Palm Beach 33461 (2311 10th Ave., North 13, 561-585-0441).

Pensacola 32501 (4501 Twin Oaks Dr., 850-456-5886).

Sarasota 34231 (4801 Swift Rd., 941-927-8285).

St. Petersburg 33713 (2880 1st Ave., N., 727-893-3791).

Tallahassee 32303 (548 Bradford Rd., 850-942-8810).

Tampa 33604 (8900 N. Armenia Ave., Ste. 312, 813-228-2621).

National Cemeteries

Barrancas 32508-1054 (80 Hovey Rd., Naval Air Station, Pensacola, 850-453-4846).

Bay Pines 33504-0477 (10000 Bay Pines Blvd., North Bay Pines, 727-398-9426).

Florida 33513 (6502 SW 102nd Ave., Bushnell, 352-793-7740).

Jacksonville 32202 (300 N. Hogan St.).

St. Augustine 32084 (104 Marine St., 352-793-7740).

South Florida 33467 (6501 South State Road 7, Lake Worth, 561-649-6489).

GEORGIA

VA Medical Centers

Augusta 30904-6285 (1 Freedom Way, 706-733-0188 or 800-836-5561).

Decatur 30033 (1670 Clairmont Road, 404-321-6111 or 800-944-9726).

Dublin 31021 (1826 Veterans Blvd., 478-272-1210 or 800-595-5229).

Clinics

Aiken 29803 (951 Millbrook Rd., 803-643-9016).

Albany 31701 (417 4th Avenue, 229-446-9000).

Athens 30601 (9249 Highway 29, 706-227-4534).

Columbus 31906 (1310 13th St., 706-257-7200).

Decatur 30030 (755 Commerce Dr., 2nd Floor, 404-417-5200).

East Point 30344 (1513 Cleveland Ave., 404-321-6111 x2600).

Lawrenceville 30043 (1970 Riverside Pkwy, 404-417-1750).

Macon 31220 (5398 Thomaston Road, Suite B, 478-476-8868).

Oakwood 30566 (3931 Munday Mill Rd., 404-728-8212).

Rome 30161 (30 Chateau Dr, SE, 706-235-6581).

Savannah 31406 (325 West Montgomery Crossroads, 912-920-0214).

Smyrna 30082 (562 Concord Road, 404-417-1760).

Valdosta 31602 (2841 N. Patterson Street, 229-293-0132).

Regional Office

Decatur 30033 (1700 Clairmont Rd., statewide 1-800-827-1000).

Vet Centers

Atlanta 30324 (1440 Dutch Valley Place, Suite G, 404-347-7264).

Macon 31201 (750 Riverside Dr., 478-272-1210 ext. 3883/4).

Savannah 31406 (8110A White Bluff Rd., 912-652-4097).

National Cemeteries

Georgia 30114 (2025 Mt. Carmel Church Lane, Canton, 866-236-8159).

Marietta 30060 (500 Washington Ave., 866-236-8159).

GUAM

Clinic

Agana Heights 96919 (U.S. Naval Hospital, Bldg-1, E-200, Box 7608, 671-344-9200).

Benefits Office/Vet Center

Hagatna 96910 (Reflection Center, #201, 222 Chalan Santo Papa St., 671-472-7161).

HAWAII

Medical Center

Honolulu 96819-1522 (459 Patterson Rd., E Wing) (toll-free from Hawaii, Guam, Saipan, Rota and Tinian at 1-800-827-1000; toll-free from American Samoa at 1-877-899-4400).

Clinics

Hilo 96720 (1285 Wainuenue Ave., Suite 211, 808-935-3781).

Honolulu PTSD 96819 (3375 Koapaka St., 808-566-1546).

Kauai; Lihue 96766 (3-3367 Kuhio Hwy., Suite 200, 808-246-0497).

Kona; Kailua-Kona 96740 (75-377 Hualalai Rd., 808-329-0774).

Maui; Kahului 96732 (203 Ho'ohana St., Suite 303, 808-871-2454).

Regional Office

Honolulu 96819-1522 (459 Patterson Rd., E Wing. Mailing address: PO Box 29020, Honolulu, HI 96820) (toll-free from Hawaii, Guam, Saipan, Rota and Tinian, 1-800-827-1000; toll-free from American Samoa, 1-877-899-4400).

VR&E Benefits Offices

Hilo 96720 (1285 Waianuenue, 2nd Floor, 808-935-6691).

Kahului 96732 (203 Ho'ohana St., 808-873-9426).

Vet Centers

Hilo 96720 (120 Pu'uhonu St., Suite 2, 808-969-3833).

Honolulu 96814 (1680 Kapiolani Blvd., Suite F.3, 808-973-8387).

Kailua-Kona 96740 (Hale Kui Plaza, Suite 207, 73-4976 Kamanu St. 808-329-0574).

Lihue 96766 (3-3367 Kuhio Hwy., Suite 101, 808-246-1163).

Wailuku 96793 (35 Lunalilo, Suite 101, 808-242-8557).

National Cemetery

Nat. Cem. of the Pacific 96813-1729 (2177 Puowaina Dr., Honolulu, 808-532-3720).

IDAHO

Medical Center

Boise 83702 (500 West Fort St., 208-422-1000).

Clinics

Caldwell 83605 (120 E. Pine St., 208-454-4820).

Pocatello 83201 (444 Hospital Way, Suite 801, 208-232-6214).

Salmon 83467 (111 Lillian St., #203, 208-756-8515).

Twin Falls 83301 (260 2nd Ave, E., 208-732-0947).

Regional Office

Boise 83702 (805 W. Franklin St., statewide, 1-800-827-1000).

Vet Centers

Boise 83705 (5440 Franklin Rd., Suite 100, 208-342-3612).

Pocatello 83201 (1800 Garrett Way, 208-232-0316).

ILLINOIS

VA Medical Centers

Chicago 60612 (820 South Damen Ave., 312-569-8387).

Danville 61832-5198 (1900 East Main Street, 217-554-3000 or 800-320-8387).

Hines 60141 (5th & Roosevelt Rd., P.O. Box 5000, 708-202-8387).

Marion 62959 (2401 West Main, 618-997-5311).

North Chicago 60064 (3001 Green Bay Road, 847-688-1900 or 800-393-0865).

Clinics

Aurora 60506 (1700 N. Landmark Road, 630-859-2504).

Belleville 62223 (6500 W Main St., 314-286-6988).

Chicago 60620 (7731 S Halsted St., 773-962-3700).

Chicago 60611 (Lakeside, 333 E. Huron, 312-569-8387).

Chicago Heights 60411 (30 E. 15th Street, Suite 207, 708-756-5454).

Decatur 62526-9381 (3035 East Mound Road, 217-875-2670).

Effingham 62401 (1901 S 4th St., Suite 21, 217-347-7600).

Elgin 60123 (450 W. Dundee Rd., 847-742-5920).

Evanston 60202 (107—109 Clyde St., 847-869-6315).

Freeport 61032 (1301 Kiwanis Dr., 815-235-4881).

Galesburg 61401 (387 East Grove, 309-343-0311).

Joliet 60435 (2000 Glenwood Ave., 815-744-0492).

LaSalle 61301 (2970 Chartres, 815-223-9678).

Manteno 60950 (Illinois Veterans Home, One Veterans Dr., 815-468-1027).

McHenry 60050 (620 South Route 31, 815-759-2306).

Mt. Vernon 62864 (1 Doctors Park Rd., 618-246-2910).

Oak Lawn 60453 (4700 W. 95th St., 708-499-3675).

Oak Park 60302 (149 S. Oak Park Ave., 708-386-3008).

Peoria 61605-2400 (411 Dr. Martin Luther King Jr. Dr., 309-497-0790).

Quincy 62301 (721 Broadway, 217-224-3366).

Rockford 61108 (4940 East State St., 815-227-0081).

Springfield 62702 (700 North 7th Street, Suite C, 217-522-9730).

Regional Office

Chicago 60612 (2122 W. Taylor St., statewide 1-800-827-1000).

Vet Centers

Chicago 60620 (7731 S. Halsted St., Suite 200, 773-962-3740).

Chicago Heights 60411 (1600 S. Halsted St., 708-754-0340).

East St. Louis 62203 (1265 N. 89th St., Suite 5, 618-397-6602).

Evanston 60202 (565 Howard St., 847-332-1019).

Moline 61265 (1529 46th Ave., 6, 309-762-6954).

Oak Park 60302 (155 S. Oak Park Blvd., 708-383-3225).

Peoria 61603 (3310 N. Prospect Rd., 309-671-7300).

Springfield 62702 (624 S. 4th St., 217-492-4955).

National Cemeteries

Abraham Lincoln 60421 (27034 South Diagonal Rd., Elwood, 815-423-9958).

Alton 62003 (600 Pearl St., 314-260-8720).

Camp Butler 62707 (5063 Camp Butler Rd., Springfield, 217-492-4070).

Danville 61832 (1900 East Main St., 217-554-4550).

Mound City 62963 (Junction Highways 37 & 51, 314-260-8720).

Quincy 62301 (36th and Maine St., 309-782-2094).

Rock Island 61299-7090 (Rock Island Arsenal, Bldg. 118, 309-782-2094).

INDlANA

VA Medical Centers

Fort Wayne 46805 (2121 Lake Ave., 260-426-5431 or 800-360-8387).

Indianapolis 46202 (1481 W. 10th St., 317-554-0000 or 888-878-6889).

Marion 46953-4589 (1700 East 38th St., 765-674-3321 or 800-360-8387).

Clinics

Bloomington 47403 (455 South Landmark Avenue, 812-336-5723, or toll free 877-683-0865).

Crown Point 46307 (9330 S. Broadway, 219-662-5000).

Evansville 47713 (500 E Walnut St., 812-465-6202).

Greendale 47025 (1600 Flossie Dr., 812-539-2313).

Muncie 47304-6357 (3500 W. Purdue Ave., 765-284-6822).

New Albany 47150 (811 Northgate Blvd, 502-287-4100).

Richmond 47374 (4351 South A St., 765-973-6915).

South Bend 46614-9668 (5735 S. Ironwood Road, 574-299-4847).

Terre Haute 47802 (110 W Honeycreek Pkwy, 812-232-2890).

West Lafayette 47906 (3851 N. River Road, 765-464-2280).

Regional Office

Indianapolis 46204 (575 N. Pennsylvania St., statewide 1-800-827-1000).

Vet Centers

Evansville 47711 (311 N. Weinbach Ave., 812-473-5993 or 473-6084).

Fort Wayne 46802 (528 West Berry St., 260-460-1456).

Merrillville 46410 (6505 Broadway Ave., 219-736-5633).

Indianapolis 46208 (3833 N. Meridian St., Suite 120, 317-927-6440).

National Cemeteries

Crown Hill 46208 (700 W. 38th St., Indianapolis, 765-674-0284).

Marion 46952 (1700 E. 38th St., 765-674-0284).

New Albany 47150 (1943 Ekin Ave., 502-893-3852).

IOWA

VA Medical Centers

Des Moines 50310-5774 (3600 30th St., 515-699-5999 or 800-294-8387).

Iowa City 52246-2208 (601 Highway 6 West, 319-338-0581 or 800-637-0128).

Knoxville 50138 (1515 W. Pleasant Street, 641-842-3101 or 800-816-8878).

Clinics

Bettendorf 52722 (2979 Victoria St., 563-332-8528).

Dubuque 52001 (Mercy Health Center, 250 Mercy Dr., 563-589-8899).

Fort Dodge 50501 (2419 2nd Avenue N, 515-576-2235).

Mason City 50401 (520 S. Pierce, Suite 150, 641-421-8077).

Sioux City 51104 (1551 Indian Hills Drive, Suite 206, 712-258-4700).

Spirit Lake 51360 (1310 Lake St., 712-336-6400).

Waterloo 50701 (1015 S Hackett Rd., 319-235-1230).

Regional Office

Des Moines 50309 (210 Walnut St., Rm. 1063, statewide 1-800-827-1000).

Vet Centers

Cedar Rapids 52402 (1642 42nd St. N.E., 319-378-0016).

Des Moines 50310 (2600 Martin Luther King Jr. Pkwy., 515-284-4929).

Sioux City 51104 (1551 Indian Hills Dr., Suite 214, 712-255-3808).

National Cemetery

Keokuk 52632 (1701 J St., 309-782-2094).

KANSAS

VA Medical Centers

Leavenworth 66048-5055 (4101 S. 4th St., 913-682-2000 or 800-952-8387).

Topeka 66622 (2200 SW, Gage Boulevard, 785-350-3111 or 800-574-8387).

Wichita 67218 (5500 E. Kellogg, 316-685-2221 or 888-878-6881).

Clinics

Abilene 67410 (510 NE 10th St., 785 263-2100 ext. 161).

Chanute 66720 (Neosho Memorial Medical Center, 629 South Plummer, 620-431-4000 ext. 1553).

Emporia 66801 (Newman Hospital, 919 W. 12th Avenue, Suite D, 620-342-7432).

Ft. Dodge 67801 (300 Custer, 1-888-878-6881 x41040).

Ft. Scott 66701 (Newman Young Clinic: 902 Horton St., 620-223-8400, ext 8655).

Garnett 66032 (Anderson County Hospital: 421 South Maple, 785-448-3131 ext. 309).

Hays 67601 (Hays Clinic: 207-B East Seventh, 1-888-878-6881 x41000).

Holton 66436 (Holton Comm. Hosp. 1110 Columbine Dr., 785-364-2116 x115 or 154).

Junction City 66441 (715 Southwind Dr., 800-574-8387 ext. 54670).

Kansas City 66102 (21 N 12th St., Bethany Med. Blg., #110, 1-800-952-8387 x56990).

Lawrence 66049 (2200 Harvard Road, 800-574-8387 ext. 54650) Liberal 67901 (Liberal Clinic: 2 Rock Island Road, Suite 200, 620-626-5574).

Paola 66071 (510 South Hospital Drive, 816-922-2160).

Parsons 67357 (1401 North Main Street, 1-888-878-6881 x41060).

Russell 67665 (Regional Hosp. Medical Arts Blg., 200 S. Main St., 785-483-3131x155).

Salina 67401 (1410 E. Iron, Suite 1, 1-888-878-6881 x41020).

Seneca 66538 (Nemaha Valley Hosp., 1600 Community Dr., 785-336-6181 x162).

Regional Office

Wichita 67218 (Robert J. Dole Regional Office, 5500 E. Kellogg Ave., 1-800-827-1000).

Vet Center

Wichita 67211 (413 S. Pattie, 316-265-3260).

National Cemeteries

Fort Leavenworth 66027 (395 Biddle Blvd., 913-758-4105).

Fort Scott 66701 (900 East National Ave., 620-223-2840).

Leavenworth 66048 (4101 South 4th St., Traffic Way, 913-758-4105).

KENTUCKY

VA Medical Centers

Lexington-Cooper Dr. Div. 40502 (1101 Veterans Dr., 859-233-4511 or 888-824-3577).

Lexington-Leestown Div. 40511 (2250 Leestown Rd., 859-233-4511 or 888-824-3577).

Louisville 40206 (800 Zorn Avenue, 502-287-4000 or 800-376-8387).

Clinics

Bellevue 41073 (103 Landmark Dr., 859-392-3840).

Bowling Green 42103 (Hartland Medical Plaza, 1110 Wilkinson Trace Cir., 270-796-3590).

Florence 41042 (7711 Ewing, 859-282-4480).

Ft. Campbell 42223 (Desert Storm Ave. Building 39, 270-798-4118).

Ft Knox 40121 (851 Ireland Loop, 502-624-9396).

Hanson 42413 (926 Veterans Drive, 270-322-8019).

Louisville 40207 (4010 Dupont Circle, 502-287-6986).

Louisville-Newburg 40218 (3430 Newburg Rd., 502-287-6223).

Louisville-Shively 40216 (3934 North Dixie Highway, Suite 210, 502-287-6000).

Louisville-Standiford Field 40213 (1101 Grade Ln., 502-413-4635).

Paducah 42001 (2620 Perkins Creek Dr., 270-444-8465).

Prestonsburg 41653 (Highlands Reg., Med., 5000 KY RT 321 Box 668, 606-886-1970).

Somerset 42503 (104 Hardin Ln., 606-676-0786).

Regional Office

Louisville 40202 (321 W. Main St., Ste., 390, statewide 1-800-827-1000).

Vet Centers

Lexington 40507 (301 E. Vine St., Suite C, 859-253-0717).

Louisville 40208 (1347 S. 3rd St., 502-634-1916).

National Cemeteries

Camp Nelson 40356 (6980 Danville Rd., Nicholasville, 859-885-5727).

Cave Hill 40204 (701 Baxter Ave., Louisville, 502-893-3852).

Danville 40442 (277 N. First St., 859-885-5727).

Lebanon 40033 (20 Highway 208, 502-893-3852).

Lexington 40508 (833 W. Main St., 859-885-5727).

Mill Springs 42544 (9044 West Highway 80, Nancy, 859-885-5727).

Zachary Taylor 40207 (4701 Brownsboro Rd., Louisville, 502-893-3852).

LOUISIANA

VA Medical Centers

Alexandria 71306 (: P. O. Box 69004, 318-473-0010 or 800-375-8387).

Shreveport 71101-4295 (510 E. Stoner Ave., 318-221-8411 or 800-863-7441).

Clinics

Baton Rouge 70809 (7968 Essen Park Ave., 225-761-3400).

Hammond 70403 (1131 South Morrison Ave., 985-902-5026).

Houma 70360 (1750 Martin Luther King Jr Blvd Ste 107, 985-851-0188).

Jennings 70546 (1907 Johnson St., 337-824-1000).

Lafayette 70501 (2100 Jefferson St., 337-261-0734).

LaPlace 70068 (501 Rue De Sante, Suite 10, 504-565-4705).

Monroe 71203 (250 De Siard Plaza Dr., 318-343-6100).

New Orleans 70161-1011 (1601 Perdido St., Mailing Address: P.O. Box 61011, 800-935-8387/504-412-3700).

Slidell 70461 (340 Gateway Dr., 1-800-935-8387).

Regional Office

Gretna 70056 (671A Whitney Ave., statewide 1-800-827-1000).

Vet Centers

Baton Rouge 70809 (5207 Essen Lane, Suite 2, 225-757-0045).

Kenner 70062 (2200 Veterans Blvd., Suite 114, 504-464-4743).

Shreveport 71104 (2800 Youree Dr., Bldg. 1, Suite 1, 318-861-1776).

National Cemeteries

Alexandria 71360 (209 E. Shamrock St., Pineville, 601-445-4981).

Baton Rouge 70806 (220 N. 19th St., 225-654-3767).

Port Hudson 70791 (20978 Port Hickey Rd., Zachary, 225-654-3767).

MAINE

VA Medical Center

Augusta 04330 (1 VA Center, 207-623-8411 or 877-421-8263).

Clinics

Bangor 04401 304 Hancock St., Suite 3B, 207-561-3600).

Calais 04619 (50 Union St., 207-904-3700).

Caribou 04736 (163 Van Buren Drive, Suite 6, 207-493-3800).

Lincoln 04457 (99 River Road, 207-403-2000).

Rumford 04726 (431 Franklin St., 207-369-3200).

Saco 04072 (655 Main St., 207-294-3100).

Vet Centers

Bangor 04401 (368 Harlow St., 207-947-3391).

Caribou 04619 (456 York St., York Street Complex, 207-496-3900).

Lewiston 04240 (Pkwy Complex, 29 Westminster St., 207-783-0068).

Portland 04103 (475 Stevens Ave., 207-780-3584).

Springvale 04083 (628 Main St., 207-490-1513).

National Cemetery

Togus 04330 (1 VA Center, 508-563-7113).

MARYLAND

VA Medical Centers

Baltimore 21201 (10 North Greene St., 410-605-7000 or 800-463-6295).

Baltimore-Rehabilitation and Extended Care Center 21218 (3900 Loch Raven Boulevard, 410-605-7000).

Perry Point 21902 (410-642-2411 or 800 949-1003).

Clinics

Baltimore-Loch Raven 21218 (3901 the Alameda, 410-605-7651).

Cambridge 21613 (830 Chesapeake Dr., 410-228-6243 or 877-864-9611).

Charlotte Hall 20622 (State Veterans Home, 29431 Charlotte Hall Rd., 301-884-7102).

Cumberland 21502 (200 Glenn St., 301-724-0061).

Fort Howard 21052 (9600 North Point Rd., 410-477-1800 or 800-351-8387).

Glen Burnie 21061 (808 Landmark Dr., Suite 128, 410-590-4140).

Greenbelt 20770 (7525 Greenway Center Dr., Professional Cntr., #T-4, 301-345-2463).

Hagerstown 21742 (Hub Plaza Bldg, 1101 Opal Ct., 301-665-1462).

Pocomoke 21851 (101B Market St., 410-957-6718).

Regional Office

Baltimore 21201 (31 Hopkins Plaza Federal Bldg., 1-800-827-1000).

Vet Centers

Baltimore 21207 (6666 Security Blvd., Suite 2, 410-277-3600).

Cambridge 21613 (5510 West Shore Dr., 410-228-6305 ext. 4123).

Elkton 21921 (103 Chesapeake Blvd., Suite A, 410-392-4485).

Silver Spring 20910 (1015 Spring St., Suite 101, 301-589-1073).

National Cemeteries

Annapolis 21401 (800 West St., 410-644-9696).

Baltimore 21228 (5501 Frederick Ave., 410-644-9696).

Loudon Park 21228 (3445 Frederick Ave., Baltimore, 410-644-9696).

MASSACHUSETTS

VA Medical Centers

Bedford 01730 (200 Springs Rd., 781-687-2000 or 800-422-1617).

Brockton 02301 (940 Belmont St., 508-583-4500).

Jamaica Plain 02130 (150 South Huntington Ave., 617-232-9500).

Leeds 01053-9764 (Northampton VA, 421 N Main St., 413-584-4040 or 800-893-1522).

West Roxbury 02132 (1400 VFW Parkway, 617-323-7700).

Clinics

Boston 02114 (251 Causeway St., 617-248-1000).

Dorchester 02121 (895 Blue Hill Ave, 617-822-7146).

Fitchburg 01420 (Burbank Hospital, 275 Nichols Rd., 978-342-9781).

Framingham 01702 (61 Lincoln St., Suite 112, 508-628-0205).

Gloucester 01930 (Addison Gilbert Hosp., 298 Washington St., 978-282-0676 x1782).

Greenfield 01301 (143 Munson St., 413-773-8428).

Haverhill 01830 (108 Merrimack St., 978-372-5207).

Hyannis 02601 (145 Falmouth Rd., 508-771-3190).

Lowell 01852 (130 Marshall Rd., 978-671-9000).

Lynn 01904 (225 Boston Rd., Suite 107, 781-595-9818).

Martha's Vineyard 02557 (Hospital Rd., 508-693-0410).

Nantucket 02554 (Nantucket Cottage Hospital, 57 Prospect St., 508-825-VETS).

New Bedford 02740 (174 Elm St., 508-994-0217).

Pittsfield 01201 (73 Eagle St., 413-443-4857).

Quincy 02169 (Quincy Medical Center, 2nd floor, 114 Whitwell St., 617-376-2010).

Springfield 01104 (25 Bond St., 413-731-6000).

Worcester 01605 (605 Lincoln St., 508-856-0104).

Regional Office

Boston 02203-0393 (JFK Federal Building, Room 1265, Government Center, statewide 1-800-827-1000) (Towns of Fall River & New Bedford, counties of Barnstable, Dukes, Nantucket, Bristol, part of Plymouth served by Providence, R.I., VA Regional Office).

Vet Centers

Boston 02215 (665 Beacon St., 617-424-0665).

Brockton 02401 (1041-L Pearl St., 508-580-2730).

Hyannis 02601 (474 West Main St., (508-778-0124).

Lowell 01852 (73 East Merrimack St., 978-453-1151).

New Bedford 02740 (468 North St., 508-999-6920).

Springfield 01103 (1985 Main St., Northgate Plaza, 413-737-5167).

Worcester 01605 (691 Grafton St., 508-753-7902).

National Cemetery

Massachusetts 02532 (Connery Ave., Bourne, 508-563-7113).

MICHIGAN

VA Medical Centers

Ann Arbor 48105 (2215 Fuller Rd., 734-769-7100 or 800-361-8387).

Battle Creek 49015 (5500 Armstrong Rd., 269-966-5600 or 888-214-1247).

Detroit 48201 (4646 John R. St., 313-576-1000 or 800-511-8056).

Iron Mountain 49801 (325 East H St., 906-774-3300 or 800-215-8262).

Saginaw 48602 (1500 Weiss St., 989-497-2500 or 800-406-5143).

Clinics

Benton Harbor 49022 (115 Main St., 269-934-9123).

Flint 48532 (G-3267 Beecher Rd., 810-720-2913).

Gaylord 49735 (806 S. Otsego, 989-732-7525).

Grand Rapids 49505 (3019 Coit St., NE, 616-365-9575).

Hancock 49930-1495 (787 Market St., Quincy Center Suite 9, 906-482-7762).

Ironwood 49938 (629 W. Cloverland Dr., Suite 1, 906-932-0032).

Jackson 49203 (Townsend Family Med., 400 Hinckley Blvd., Suite 300, 517-782-7436).

Kincheloe 49788 (Sault Ste. Marie Clinic: 16523 S. Watertower Dr., #1, 906-495-3030).

Lansing 48910 (2025 S. Washington Ave., 517-267-3925).

Marquette 49855 (425 Fisher St., 906-226-4618).

Menominee 49858 (1101 10th Ave., Suite 101, 906-863-1286).

Muskegon 49442 (165 E. Apple Ave., Suite 201, 231-725-4105).

Oscoda 48750 (5671 Skeel Ave., Suite 4, 989-747-0026).

Pontiac 48340 (1701 Baldwin Ave., Suite 101, 248-409-0585).

Traverse City 49684 (3271 Racquet Club Dr., 231-932-9720).

Yale 48097 (7470 Brockway Dr., 810-387-3211).

Regional Office

Detroit 48226 (Patrick V. McNamara Federal Bldg., 477 Michigan Ave., Rm. 1400, 1-800-827-1000).

Vet Centers

Dearborn 48124-3438 (2881 Monroe St., Suite 100, 313-277-1428).

Detroit 48201 (4161 Cass Ave., 313-831-6509).

Escanaba 49829 (Willow Creek Professional Bldg., 3500 Ludington St.).

Grand Rapids 49507 (1940 Eastern SE, 616-243-0385).

Saginaw 48603 (4048 Bay Rd., 989-321-4650).

National Cemeteries

Fort Custer 49012 (15501 Dickman Rd., Augusta, 269-731-4164).

Great Lakes 48442 (4200 Belford Rd., Holly, 866-348-8603).

MINNESOTA

VA Medical Centers

Minneapolis 55417 (One Veterans Dr., 612-725-2000 or 866-414-5058).

St. Cloud 56303 (4801 Veterans Dr., 320-252-1670 or 800-247-1739).

Clinics

Bemidji 56601 (705 5th St., 218-755-6360).

Brainerd 56401 (11800 State Hwy 18, 218-855-1115).

Fergus Falls 56537 (Veterans Home, 1821 North Park St., 218-739-1400).

Hibbing 55746 (1101 East 37th St., Suite 220, 218-263-9698).

Maplewood 55109 (2785 White Bear Ave., Suite 210, 651-290-3040).

Montevideo 56265 (1025 North 13th St., 320-269-2222).

Rochester 55902 (1617 Skyline Dr., 507-252-0885).

St. James 56081 (1101 Moultin and Parsons Dr., 507-375-3391).

Regional Office

St. Paul 55111 (Bishop Henry Whipple Federal Bldg., 1 Federal Dr., 1-800-827-1000) (Counties of Becker, Beltrami, Clay, Clearwater, Kittson, Lake of the Woods, Mahnomen, Marshall, Norman, Otter Tail, Pennington, Polk, Red Lake, Roseau, Wilkin served by Fargo, N.D., VA Regional Office).

Vet Centers

Duluth 55802 (405 E. Superior St., 218-722-8654)

St. Paul 55114 (2480 University Ave., 651-644-4022)

National Cemetery

Fort Snelling 55450-1199 (7601 34th Ave. So., Minneapolis, 612-726-1127).

MISSISSIPPI

Medical Centers

Biloxi 39531 (400 Veterans Ave., 228-523-5000 or 800-296-8872).

Jackson 39216 (1500 E. Woodrow Wilson Dr., 601-362-4471 or 800-949-1009, instate).

Clinics

Byhalia 38611 (12 East Brunswick St., 662-838-2163).

Columbus 39702 (824 Alabama St., 662-244-0391).

Greenville 38703 (1502 S Colorado St., 662-332-9872).

Hattiesburg 39401 (231 Methodist Blvd., 601-296-3530).

Houlka 38850 (106 Walker St., 662-568-3316).

Kosciusko 39090 (332 Hwy 12W, 662-289-1800).

Meadville 39653 (595 Main Street East, 601-384-3650).

Meridian 39301 (13th St., 601-482-7154).

Natchez 39120 (46 Sgt Prentiss Dr., Ste. 16, 601-442-7141).

Regional Office

Jackson 39216 (1600 E. Woodrow Wilson Ave., statewide 1-800-827-1000).

Vet Centers

Biloxi 39531 (288 Veterans Ave., 228-388-9938).

Jackson 39216 (1755 Lelia Dr., Suite 104, 601-965-5727).

National Cemeteries

Biloxi 39535-4968 (P.O. Box 4968, 400 Veterans Ave., 228-388-6668).

Corinth 38834 (1551 Horton St., 901-386-8311).

Natchez 39120 (41 Cemetery Rd., 601-445-4981).

MISSOURI

VA Medical Centers

Columbia 65201-5297 (800 Hospital Dr., 573-814-6000 or 800-349-8262).

Kansas City 64128 (4801 Linwood Blvd., 816-861-4700 or 800-525-1483).

Poplar Bluff 63901 (1500 N. Westwood Blvd., 573-686-4151).

Saint Louis-Jefferson Barracks 63125-4101 (1 Jefferson Barracks Dr., 314-652-4100 or 800-228-5459).

Saint Louis-John Cochran Div. 63106 (915 N. Grand Blvd., 314-652-4100 or 800-228-5459).

Clinics

Belton 64012 (17140 Bel-Ray Pl., 816-922-2161).

Camdenton 65020 (Lake of the Ozarks Clinic, 246 E Highway 54, 573-317-1150).

Cameron 64429 (1111 Euclid Dr., 816-922-2500 ext. 54251).

Cape Girardeau 63701 (2420 Veterans Memorial Dr., 573-339-0909).

Farmington 63640 (1580 W. Columbia St., 573-760-1365).

Ft. Leonard Wood 65473 (126 Missouri Ave., Box 1239, 573-329-8305).

Kirksville 63501 (1108 East Patterson, Suite 9, 660-627-8387).

Mexico 65265 (Missouri Veterans Home, One Veterans Dr., 573-581-9630).

Mt Vernon 65712 (600 N Main, 417-466-0118).

Nevada 64772 (322 South Prewitt, 417-448-8905).

Salem 65560 (Hwy 72 North, 573-729-6626 or 1-888-557-8262).

St. Charles 63304 (7 Jason Ct., 314-286-6988).

St. James 65559-1999 (Missouri Veterans Home, 620 N. Jefferson, St., 573 265-0448).

St. Joseph 64506 (1314 North 36th St., Suite A, 1-800-952-8387 ext 56925).

St. Louis 63136 (10600 Lewis and Clark Blvd., 314-286-6988).

Warrensburg 64093 (1300 Veterans Dr., 816 922-2500 ext. 54281).

West Plains 65775 (1211 Missouri Ave, 417-257-2454).

Regional Office

St. Louis 63103 (400 South 18th St., statewide 1-800-827-1000).

Benefits Office

Kansas City 64128 (4801 Linwood Blvd., 816-922-2660 or 1-800-525-1483, x 52660).

Vet Centers

Kansas City 64111 (301 E. Armour Rd., 816-753-1866).

St. Louis 63103 (2345 Pine St., 314-231-1260).

National Cemeteries

Jefferson Barracks 63125 (2900 Sheridan Rd., St. Louis, 314-260-8720).

Jefferson City 65101 (1024 E. McCarty St., 314-260-8720).

Springfield 65804 (1702 E. Seminole St., 417-881-9499).

MONTANA

VA Medical Centers

Fort Harrison 59636-1500 (3687 Veterans Drive, P.O. Box 1500, 406-442-6410).

Clinics

Anaconda 59711 (118 East 7th St., 406-563-6090).

Billings 59102 (2345 King Avenue West, 406-651-5670).

Cut Bank 59427 (Glacier Community Health, 519 East Main St., 406-873-5670).

Bozeman 59715 (300 N. Wilson, Suite 703G, 406-522-8923).

Glasgow 59230 (621 3rd St., South, Suite 107, 406-228-3554).

Glendive 59330 (2000 Montana Ave., 406-488-2307).

Great Falls 59405 (1417-9th St., South, Suite 200, 877-468-8387 opt 3).

Kalispell 59901 (31 Three Mile Dr., Ste. 102, 406-751-5980).

Miles City 59301 (Clinic/Nursing Home, 210 S. Winchester, 406-874-5600).

Missoula 59808 (2687 Palmer St., Suite C, 877-468-8387 (temp)).

Regional Office

Fort Harrison 59636 (3633 Veterans Dr., PO Box 1500, 1-800-827-1000).

Vet Centers

Billings 59102 (1234 Ave., C, 406-657-6071).

Missoula 59802 (500 N. Higgins Ave., 406-721-4918).

NEBRASKA

VA Medical Centers

Grand Island 68803-2196 (2201, No. Broadwell Ave., 308-382-3660/866-580-1810).

Lincoln 68510 (600 South 70th St., 402-489-3802/866-851-6052).

Omaha 68105 (4101 Woolworth Ave., 402-346-8800/800-451-5796).

Clinics

Alliance 69301 (524 Box Butte Ave., 605-745-2000 ext. 2474).

Norfolk 68701 (301 N 27th St, Suite #1, 402-844-8000).

North Platte 69101 (600 East Francis, Suite 3, 308-532-6906).

Rushville/Gordon 69343 (300 E. 8th St., 605-745-2000 ext. 2474).

Scottsbluff 69361 (1720 E Portal Place, 308-220-3930).

Sidney 69162 (1116 10th Ave., 308-254-5575).

Regional Office

Lincoln 68516 (5631 S. 48th St., statewide 1-800-827-1000).

Vet Centers

Lincoln 68508 (920 L St., 402-476-9736).

Omaha 68131 (2428 Cuming St., 402-346-6735).

National Cemetery

Fort McPherson 69151-1031 (12004 S. Spur 56A, Maxwell, 888-737-2800).

NEVADA

VA Medical Centers

Las Vegas 89106 (901 Rancho Lane, Mailing Address: P.O. Box 360001, North Las Vegas, NV 89036, 702-636-3000/888-633-7554).

Reno 89502 (1000 Locust Street, 775-786-7200 or 888-838-6256).

Clinics

Ely 89301 (William B. Ririe Hospital, 6 Steptoe Circle, 775-289-3612).

Fallon 89406 (Lahontan Valley Outpatient Clinic: 345 West A St., 775-428-6161).

Henderson 89014 (2920 N. Greenvalley Pkwy., Suite 215, 702-636-6363).

Las Vegas 89106 (Center for Homeless Veterans, 916 West Owens Ave., 702-636-6380).

Minden 89423 (Carson Valley Clinic, 925 Ironwood Dr., #2102, 888-838-6256 x4000).

Pahrump 89048 (2100 E. Calvada Blvd., 775-727-7535).

Regional Office

Reno 89520 (5460 Reno Corporate Dr., statewide 1-800-827-1000).

Benefits Office

Las Vegas 89107 (4800 Alpine Pl., Suite 12, 1-800-827-1000).

Vet Centers

Las Vegas 89146 (1919 So. Jones Blvd., Suite A., 702-251-7873).

Reno 89503 (1155 W. 4th St., Suite 101, 775-323-1294).

NEW HAMPSHIRE

VA Medical Center

Manchester 03104 (718 Smyth Road, 603-624-4366 or 800-892-8384).

Conway 03818 (7 Greenwood Ave., 603-447-3500 ext. 11).

Littleton 03561 (Littleton Regional Hospital, 600 St. Johnsbury Rd., 603-444-9328).

Portsmouth 03803 (Pease Intl., Tradeport 302 Newmarket St., 603-624-4366 x5500).

Somersworth 03878 (200 Route 108, 603-624-4366, Ext. 5700).

Tilton 03276 (NH Veterans Home, 139 Winter St., 603-624-4366 ext. 5600).

Regional Office

Manchester 03101 (Norris Cotton Federal Bldg., 275 Chestnut St., 1-800-827-1000).

Vet Center

Manchester 03104 (103 Liberty St., 603-668-7060/61).

NEW JERSEY

VA Medical Centers

East Orange 07018 (385 Tremont Avenue, 973-676-1000).

Lyons 07939 (151 Knollcroft Road, 908-647-0180).

Clinics

Brick 08724 (970 Rt. 70, 732-206-8900).

Cape May 08204 (1 Monroe Ave., 609-898-8700).

Elizabeth 07206 (654 East Jersey Street, Suite 2A, 908-994-0120).

Fort Monmouth 07703 (Paterson Army Health Clinic, Building 1075, Stephenson Ave., 732-532-4500).

Ft. Dix 08640 (Marshall Hall, 8th and Alabama, 609-562-2999).

Hackensack 07601 (385 Prospect Avenue, 201-487-1390).

Jersey City 07302 (115 Christopher Columbus Dr., 201-435-3055/3305).

Morristown 07960 (340 West Hanover Ave., 973-539-9791/9794).

New Brunswick 08901 (317 George Street, 732-729-0646/9555).

Newark 07102 (20 Washington Place, 973-645-1441).

Paterson 07503 (275 Getty Ave., St. Joseph's Hospital & Med. Center, 973-247-1666).

Sewell 08080-2525 (211 County House Road, 856-401-7665).

Trenton 08611-2425 (171 Jersey Street, Bldg. 36, 609-989-2355).

Ventnor 08406 (6601 Ventnor Avenue, Suite 406, 609-823-3122).

Vineland 08360 (Veterans Memorial Home, Northwest Boulevard, 856-692-1588).

Vineland 08360 (1051 West Sherman Ave., 856-692-2881).

Regional Office

Newark 07102 (20 Washington Pl., statewide 1-800-827-1000) (Philadelphia, PA

Regional Office serves counties of Atlantic, Burlington, Camden, Cape May,

Cumberland, Gloucester, Salem).

Vet Centers

Bloomfield 07003 (2 Broad St., Suite 703, 973-748-0980).

Jersey City 07302 (115 Christopher Columbus Dr., Suite 200, 201-748-4467).

Ewing 08618 (934 Parkway Ave., 2nd Fl., 609-882-5744).

Ventnor 08406 (6601 Ventnor Ave., Suite 105, 609-487-8387).

National Cemeteries

Beverly 08010 (916 Bridgeboro Rd., 609-880-0827).

Finn's Point 08079 (Box 542, R.F.D. 3, Fort Mott Rd., Salem, 609-880-0827).

NEW MEXICO

VA Medical Center

Albuquerque 87108-5153 (1501 San Pedro Dr., SE., 505-265-1711 or 800-465-8262).

Clinics

Alamogordo 88310 (1410 Aspen, 505-437-7000).

Artesia 88210-3712 (1700 W. Main St., 505-746-3531).

Clovis 88101 (921 East Llano Estacado, 505-763-4335).

Espanola 87532 (620 Coronado St., Suite B, 505-753-7395).

Farmington 87401-5638 (1001 W. Broadway, Suite B, 505-326-4383).

Gallup 87301 (320 Hwy 564, 505-722-7234).

Hobbs 88340 (1601 N Turner (4th Floor), 505-391-0354).

Las Cruces 88001 (1635 Don Roser, 505-522-1241).

Las Vegas 87701 (1235 8th St., Las Vegas, 505-425-6788).

Raton 87440-2234 (1275 S. 2nd St., 505-445-2391).

Santa Fe 87505 (2213 Brothers Road, Suite 600, 505-986-8645).

Silver City 88601 (1302 32nd St., 505-538-2921).

Truth or Consequences 87901 (1960 North Date St., 505-894-7662).

Regional Office

Albuquerque 87102 (Dennis Chavez Federal Bldg., 500 Gold Ave., S.W., statewide 1-800-827-1000).

Vet Centers

Albuquerque 87104 (1600 Mountain Rd. NW., 505-346-6562).

Farmington 87402 (4251 E. Main, Suite C, 505-327-9684).

Las Cruces 88001 (230 S. Water St., 575-523-9826).

Santa Fe 87505 (2209 Brothers Rd., Suite 110, 505-988-6562).

National Cemeteries

Fort Bayard 88036 (P.O. Box 189, 915-564-0201).

Santa Fe 87501 (501 N. Guadalupe St., 505-988-6400 or toll-free 877-353-6295).

NEW YORK

VA Medical Centers

Albany 12208 (113 Holland Ave., 518-626-5000).

Batavia 14020 (222 Richmond Ave., 585-297-1000 or 888-798-2302).

Bath 14810 (76 Veterans Ave., 607-664-4000 or 877-845-3247).

Bronx 10468 (130 West Kingsbridge Rd., 718-584-9000 or 800-877-6976).

Brooklyn 11209 (800 Poly Place, 718-836-6600).

Buffalo 14215 (3495 Bailey Ave., 716-834-9200 or 800-532-8387).

Canandaigua 14424 (400 Fort Hill Ave., 585-394-2000).

Castle Point 12511 (Route 9D, 845-831-2000 or 800-269-8749).

Montrose 10548 (2094 Albany Post Rd., Route 9A, P.O. Box 100, 914-737-4400 ext. 2400 or 800-269-8749).

New York 10010 (423 East 23rd Street, 212-686-7500).

Northport 11768 (79 Middleville Road, 631-261-4400 or 800-551-3996).

Syracuse 13210 (800 Irving Ave., 315-425-4400 or 800-792-4334).

Domicialiaries

Jamaica 11425 (St. Albans Primary & Extended Care Center, 179-00 Linden Blvd. & 179 St., 718-526-1000).

Montrose 10548 ((2094 Albany Post Rd., Route 9A, P.O. Box 100, 914-737-4400).

Clinics

Auburn 13021 (17 Lansing St., 315-255-7002).

Bainbridge 13733 (109 North Main St., 607-967-8590).

Binghamton 13901 (Garvin Building, 425 Robinson St., 607-772-9100).

Bronx 10459 (953 Southern Blvd., 718-741-4900).

Brooklyn 11201 (40 Flatbush Ave. Extension, 8th Fl., 718-439-4300).

Carmel 10512 (Warwick Savings Bank, 2nd Fl, 1875 Rt 6, 845-228-Carthage 13619 (3 Bridge St., 315-493-4180).

Catskill 12414 (Columbia Greene Medical Arts Building, Suite A102, 159, Jefferson Hgts, 518-943-7515).

Clifton Park 12065 (1673 Route 9, 518-383-8506).

Cortland 13045 (1104 Commons Avenue, 607-662-1517).

Dunkirk 14048 (166 East 4th St., 800-310-5001).

Elizabethtown 12932 (PO Box 277 Park St., 518-873-3295).

Elmira 14901 (200 Madison Avenue, Suite 2E, 877-845-3247).

Fonda 12068 (2623 State Highway 30A, 518-853-1247).

Glens Falls 12801 (84 Broad St., 518-798-6066).

Goshen 10924 (30 Hatfield Lane, Suite 204, 845-294-6927).

Ithaca 14850 (10 Arrowwood Drive, 607-274-4680).

Jamestown 14701 (The Resource, Center, 896 East Second St., 716-661-1447).

Kingston 12401 (63 Hurley Ave., 845-331-8322).

Lackawanna 14218 (OLV Family Care Center, 227 Ridge Rd., 716-822-5944).

Lockport 14094 (Ambulatory Care Center, 5875 S. Transit Rd., 716-433-2025).

Malone 12953 (183 Park St., 518-481-2545).

Massena 13662 (Memorial Hospital, 1 Hospital Dr., 315-769-4253).

Monticello 12701 (60 Jefferson Street, Unit 3, Lower Parking Lot, 845 791-4936).

New City 10970 (20 Squadron Blvd., 845-634-8942).

New York 10027 (55 West 125th St., 212-828-5265).

New York 10011 (Opiate Substitution Program, 437 W 16 St., 212-462-4461).

Niagara Falls 14301-2300 (2201 Pine Avenue, 1-800-223-4810 ext. 65295).

Olean 14760-2658 (465 North Union St., 716-373-7709).

Oswego: 13126 (105 County Route 45A Suite 400, 315-343-0925).

Patchogue 11772 (4 Phyllis Drive, 631-475-6610/PC 631-758-4419).

Pine Plains 12567 (2881 Church St., Rt. 199, 518-398-9240).

Plainview 11803 (1425 Old Country Rd., 516-572-8567/PC 516-694-6008).

Plattsburgh 12901 (80 Sharron Ave. 518-561-6247).

Port Jervis 12771 (150 Pike St., 845-856-5396).

Poughkeepsie 12603 (Rt. 55, 488 Freedom Plains Rd., Suite 120, 845-452-5151).

Rochester 14620 (465 Westfall Rd., 585-463-2600).

Rome 13441 (125 Brookley Road, Building 510, 315-334-7100).

Schenectady 12308 (1322 Gerling Street, Sheridan Plaza, 518-346-3334).

Staten Island 10314 (1150 South Ave, 3rd Floor—Suite 301, 718-761-2973).

Sunnyside 11104 (41-03 Queens Blvd., 718-741-4800).

Troy 12180 (295 River St., 518-274-7707).

Warsaw 14569 (Wyoming Co. Community Hospital, 400 N. Main St., 585-786-2233).

Wellsville 14895 (3458 Riverside Dr., Route 19, 1-877-845-3247).

Westhampton 11978 (Community Air Base: 150 Old Riverhead Rd., 631-898-0599).

White Plains 10601 (23 South Broadway, 914-421-1951).

Yonkers 10705 (124 New Main St., 914-375-8055).

Regional Offices

Buffalo 14202 (Niagara Center, 130 S. Elmwood Ave., 1-800-827-1000. Serves counties not served by New York City VA Regional Office.)

New York City 10014 (245 W. Houston St., statewide 1-800-827-1000. Serves counties of Albany, Bronx, Clinton, Columbia, Delaware, Dutchess, Essex, Franklin, Fulton, Greene, Hamilton, Kings, Montgomery, Nassau, New York, Orange, Otsego, Putnam, Queens, Rensselaer, Richmond, Rockland, Saratoga, Schenectady, Schoharie, Suffolk, Sullivan, Ulster, Warren, Washington, Westchester.).

Benefits Offices

Albany 12208 (113 Holland Ave., 1-800-827-1000) Rochester 14620 (465 Westfall Rd., 1-800-827-1000).

Syracuse 13202 (344 W. Genesee St., 1-800-827-1000).

Vet Centers

Albany 12205 (17 Computer Drive West., 518-626-5130).

Babylon 11702 (116 West Main St., 631-661-3930).

Bronx 10458 (130 West Kingsbridge Rd., Rm. 7A-13, 718-367-3500).

Brooklyn 11201 (25 Chapel St., Suite 604, 718-624-2765).

Buffalo 14202 (564 Franklin St., 716-882-0505).

New York 10004 (32 Broadway, Suite 200, 212-742-9591).

New York 10027 (55 West 125th St., 11th Fl., 212-426-2200).

Rochester 14620 (1867 Mt. Hope Ave., 585-232-5040).

Staten Island 10301 (150 Richmond Terrace, 718-816-4499).

Syracuse 13210 (716 E. Washington St., 315-478-7127).

White Plains 10601 (300 Hamilton Ave., 1st Fl., 914-682-6250).

Watertown 02601 (210 Court St., 315-782-0217).

Woodhaven 11421 (75-10B 91st Ave., 718-296-2871).

National Cemeteries

Bath 14810 (76 Veterans Ave., San Juan Ave., 607-664-4853).

Calverton 11933-1031 (210 Princeton Blvd., 631-727-5410/5770).

Cypress Hills 11208 (625 Jamaica Ave., Brooklyn, 631-454-4949).

Long Island 11735-1211 (2040 Wellwood Ave., Farmingdale, 631-454-4949).

Saratoga 12871-1721 (200 Duell Rd., Schuylerville, 518-581-9128).

Woodlawn 14901 (1825 Davis St., Elmira, 607-732-5411).

NORTH CAROLINA

VA Medical Centers

Asheville 28805 (1100 Tunnel Road, 828-298-7911 or 800-932-6408).

Durham 27705 (508 Fulton St., 919-286-0411).

Fayetteville 28301 (2300 Ramsey St., 910-488-2120 or 800-771-6106).

Salisbury 28144 (1601 Brenner Avenue, 704-638-9000 or 800-469-8262).

Clinics

Charlotte 28262 (Presbyterian Plaza 8401 Medical Ctr. Dr. #350, 704-547-0020).

Durham 27705 (1824 Hillandale Road, 919-383-6107).

Greenville 27858 (800 Moye Blvd., 252-830-2149).

Jacksonville 28540 (1021 Hargett St., 910-219-1339).

Morehead City 28557 (5420 Highway 70, 252-240-2349).

Raleigh 27610 (3305 Sungate Blvd., 919-212-0129).

Wilmington 28401 (1606 Physicians Dr., Suite 104, 910-362-8811).

Winston-Salem 27103 (190 Kimel Park Drive, 336-768-3296).

Regional Office

Winston-Salem 27155 (Federal Bldg., 251 N. Main St., statewide 1-800-827-1000, nationwide Loan Guaranty Certificate of Eligibility Center 1-888-244-6711).

Vet Centers

Charlotte 28202 (223 S. Brevard St., Suite 103, 704-333-6107).

Fayetteville 28311 (4140 Ramsey St., Suite 110, 910-488-6252).

Greensboro 27406 (2009 S. Elm-Eugene St., 336-333-5366).

Greenville 27858 (150 Arlington Blvd., Suite B, 252-355-7920).

Raleigh 27604 (1649 Old Louisburg Rd., 919-856-4616).

National Cemeteries

New Bern 28560 (1711 National Ave., 252-637-2912).

Raleigh 27610-3335 (501 Rock Quarry Rd., 252-637-2912) Salisbury 28144 (202 Government Rd., 704-636-2661/4621).

Wilmington 28403 (2011 Market St., 252-637-2912).

NORTH DAKOTA

VA Medical Center

Fargo 58102 (2101 Elm Street, 701-232-3241 or 800-410-9723).

Clinics

Bismarck 58503 (2700 State Street, 701-221-9152).

Dickinson 58601 (33 9th Street, 701-483-6017).

Grafton 58237 (Developmental Center Health Bldg., West Sixth St., 701-352-4059).

Jamestown 58401 (419 Fifth Street NE, 701-952-4787).

Minot 58705 (10 Missile Avenue, 701-727-9800).

Williston 58801 (3 Fourth Street East, Suite 104, 701-577-9838).

Regional Office

Fargo 58102 (2101 Elm St., statewide 1-800-827-1000).

Vet Centers

Bismarck 58501 (1684 Capital Way, 701-224-9751).

Fargo 58103 (3310 Fiechtner Dr., Suite 100, 701-237-0942).

Minot 58701 (2041 3rd St. N.W., 701-852-0177).

OHIO

VA Medical Centers

Brecksville 44141 (10000 Brecksville Rd., 440-526-3030).

Chillicothe 45601 (17273 State Route 104, 740-773-1141 or 800-358-8262).

Cincinnati 45220 (3200 Vine Street, 513-861-3100 or 888-267-78730).

Cleveland 44106 (10701 East Blvd., 216-791-3800).

Columbus 43203 (543 Taylor Avenue, 614-257-5200 or 888-615-9448).

Dayton 45428 (4100 W. 3rd Street, 937-268-6511 or 800-368-8262).

Clinics

Akron 44319 (55 W. Waterloo 330-724-7715).

Ashtabula 44004 (1230 Lake Avenue, 440-964-6454).

Athens 45701 (510 West Union Street 740-593-7314).

Cambridge 43727 (2146 Southgate Pkwy., 740-432-1963).

Canton 44702 (733 Market Avenue South, 330-489-4600).

Cincinnati 45245 (4355 Ferguson Drive, Suite 270, 513-943-3680).

Cleveland 44113 (4242 Loraine Ave., 216-939-0699).

East Liverpool 43920 (15655 St Rt. 170, 330-386-4303).

Grove City 43123 (1955 Ohio Avenue, 614-257-5800).

Hamilton 45011 (1755-C South Erie Highway, 937-378-3413).

Lancaster 43130 (1550, Sheridan Drive Ste. 100, 740-653-6145).

Lima 45804 (1303 Bellefontaine Ave., 419-222-5788).

Lorain 44052 (205 West 20th Street, 440-244-3833).

Mansfield 44906 (1456 Park Avenue West, 419-529-4602).

Marietta 45750 (418 Colegate Drive, 740-568-0412).

Marion 43302 (1203 Delaware Avenue, Corporate Center #2, 740-223-8089).

Middletown: 45042 (675 North University Boulevard, 513-423-8387).

New Philadelphia 44663 (1260 Monroe Ave., Suite 1A, New 330) 602-5339).

Newark 43055 (Tamarck Rd., 740-788-8328).

Painesville 44077 (7 West Jackson Street, 440-357-6740).

Portsmouth 45622 (621 Broadway Street, 740-353-3236).

Ravenna 44266 (6751 N. Chestnut St., 330-296-3641) Sandusky 44870 (3416 Columbus Avenue, 419-625-7350).

Springfield 45505 (512 South Burnett Road, 937-328-3385).

St. Clairsville 43950 (107 Plaza Dr., 740-695-9321).

Toledo 43614 (3333 Glendale Avenue, 419-259-2000).

Warren 44485 (1400 Tod Ave. (NW), 330-392-0311).

Youngstown 44505 (2031 Belmont Avenue, 330-740-9200).

Zanesville 43701 (840 Bethesda Dr. Bldg. 3A, 740-453-7725).

Regional Office

Cleveland 44199 (Anthony J. Celebrezze Fed. Bldg., 1240 E. 9th St., 1-800-827-1000)

Benefits Offices

Cincinnati 45202 (36 E. Seventh St., Suite 210, 1-800-827-1000).

Columbus 43215 (Federal Bldg., Rm. 309, 200 N. High St., 1-800-827-1000).

Vet Centers

Cincinnati 45203 (801-B W. 8th St., 513-763-3500).

Cleveland Heights 44118 (2022 Lee Rd., 216-932-8471).

Columbus 43215 (30 Spruce St., 614-257-5550).

Dayton 45402 (111 W 1st St., Suite 101, 937-461-9150).

Parma 44129 (5700 Pearl Rd., Suite 102, 440-845-5023).

National Cemeteries

Dayton 45428-1088 (4100 W. Third St., 937-262-2115).

Ohio Western Reserve 44270 (10175 Rawiga Rd., Rittman, 330-335-3069).

OKLAHOMA

VA Medical Centers

Muskogee 74401 (1011 Honor Heights Drive, 918-577-3000 or 888-397-8387).

Oklahoma City 73104 (921 N.E. 13th Street, 405-270-0501 or 866-835-5273).

Clinics

Ardmore: 73401(1015 S. Commerce, 580-223-2266).

Fort Sill 73503 (4303 Pittman and Thomas Bldg. 580-353-1131).

Konawa 74849 (527 W 3rd St. P.O. Box 358, 580-925-3286).

Tulsa 74145 (9322 East 41st St., 918-628-2500).

Ponca City 74601 (215 N. 3rd, 580-762-1777).

Regional Office

Muskogee 74401 (Federal Bldg., 125 S. Main St., Compensation & Pension: 1-800-827-1000, Education National Call Center: 1-888-442-4551, National Direct Deposit: 1-877-838-2778).

Benefits Office

Oklahoma City 73102 (Federal Campus, 301 NW 6th St., Suite 113, 1-800-827-1000).

Vet Centers

Oklahoma City 73118 (1024 N.W. 47th, 405-270-5184).

Tulsa 74112 (1408 S. Harvard, 918-748-5105).

National Cemeteries

Fort Gibson 74434 (1423 Cemetery Rd., 918-478-2334).

Fort Sill 73538 (2648 NE Jake Dunn Rd., 580-492-3200).

OREGON

VA Medical Centers

Portland 97239 (3710 SW U.S. Veterans Hospital Rd., 503-220-8262 or outside Portland area 800-949-1004).

Roseburg 97470 (913 NW Garden Valley Blvd., 541-440-1000 or 800-549-8387).

Domiciliary

White City 97503 (8495 Crater Lake Hwy., 541-826-2111).

Clinics

Bandon 97411 (1010 1st Street, SE, Suite 100, 541-347-4736).

Bend 97701 (2115 NE Wyatt Ct., Suite 201, 503-220-8262 or outside Portland area 800-949-1004 x 51494).

Brookings 97415 (555 Fifth Street, 541-412-1152).

Eugene 97404 (100 River Ave., 541-607-0897).

Klamath Falls 97601 (2819 Dahlia St., 541-273-6206).

Ontario 97914 (20 SW 3rd, 208-422-1303).

Portland 97220 (10535 NE Glisan St., Gateway Medical Bldg., 2nd Fl., 503-220-8262 or outside Portland area 800-949-1004).

Salem 97301 (1660 Oak Street, SE, 503-220-8262 or outside Portland 800-949-1004).

Warrenton 97146 (91400 Rilea Neacoxie St., Building 7315, 503-220-8262 or outside Portland area 800-949-1004).

Regional Office

Portland 97204 (Edith Green/Wendell Wyatt Federal Building, 1220 S.W. Third Ave., 1-800-827-1000).

Vet Centers

Eugene 97403 (1255 Pearl St., 541-465-6918).

Grants Pass 97526 (211 S.E. 10th St., 541-479-6912).

Portland 97220 (8383 N.E. Sandy Blvd., Suite 110, 503-273-5370).

Salem 97301 (617 Chemeketa St., N.E., 503-362-9911).

National Cemeteries

Eagle Point 97524 (2763 Riley Rd., 541-826-2511).

Roseburg 97470 (1770 Harvard Blvd, 541-826-2511).

Willamette 97266-6937 (11800 S.E. Mt. Scott Blvd., Portland, 503-273-5250).

PENNSYLVANIA

VA Medical Centers

Latona 16602 (2907 Pleasant Valley Boulevard, 814-943-8164).

Butler 16001 (325 New Castle Road, 724-287-4781 or 800-362-8262).

Coatesville 19320 (1400 Black Horse Hill Road, 610-384-7711).

Erie 16504 (135 East 38 Street, 814-868-8661 or 800-274-8387).

Lebanon 17042 (1700 South Lincoln Avenue, 717-272-6621 or 800-409-8771).

Philadelphia 19104 (University and Woodland Aves., 800-949-1001 or 215-823-5800).

Pittsburgh 15260 (Delafield Road, 866-482-7488 or 412-688-6000).

Pittsburgh 15206 (Highland Drive Division 7180 Highland Drive, 412-365-4900 or 1-866-4VAPITT).

Pittsburgh 15240 (University Drive Division University Drive, 1-866-482-7488).

Wilkes-Barre 18711 (1111 East End Blvd., 570-824-3521 or 877-928-2621).

Clinics

Allentown 18103 (3110 Hamilton Boulevard, 610-776-4304).

Bangor 18013 (701 Slate Belt Boulevard, 610-599-0127).

Berwick 18603 (301 W. Third Street, 570-759-0351).

Camp Hill 17011 (25 N. 32nd Street, 717-730-9782).

DuBois 15801 (190 West Park Avenue, Suite 8, 814-375-6817).

Ellwood City 16117 (Ellwood City Hospital, Medical Arts Building, #201, 304 Evans Drive, 724-285-2203).

Foxburg 16036 (ACV Medical Center, 855 Route 58, Suite 1, 724-659-5601).

Frackville 17931 (10 East Spruce St., 570-621-4904) Greensburg 15601 (Hempfield Plaza, Route 30, 724-837-5200).

Hermitage 16148 (295 N. Kerrwood Dr., Suite 110, 724-346-1569).

Horsham 19044 (433 Caredean Dr., 215-823-6050).

Johnstown 15904 (1425 Scalp Ave., Suite 29, 814-266-8696).

Kittanning 16201 (Armstrong Memorial Hospital 1 Nolte Dr., 724-543-8711).

Lancaster 17605 (1861 Charter Lane, Green Field Corp. Center, #118, 717-290-6900).

Meadville 16335 (18955 Park Ave. Plaza, 814-337-0170).

Monaca 15061 (90 Wagner Rd., 724-216-0326).

New Castle 16101 (Jameson Hospital, 1000, S. Mercer Street, 724-285-2203).

Oil City 16301 (174 Bissell Avenue, 814-678-2631).

Oil City 16301 (Venango County Clinic, UPMC Northwest, 174 E Bissell Ave., 814-677-7591 or 800-274-8387).

Philadelphia 19106 (214 North 4th Street, 215-923-2600).

Pottsville 17901 (Good Sama. Med. Mall, 700 Schuylkill Manor Rd., #6, 570-621-4115).

Reading 19601 (St. Joseph's Community Center, 145 N. 6th St., 610-208-4717).

Sayre 18840 (1537 Elmira St., 570-888-6803).

Schuylkill 17972 (6 South Greenview Rd., 570-621-4115).

Smethport 16749 (406 Franklin Street, 814-887-5655).

Spring City 19475 (11 Independence Drive 610-948-0981).

Springfield 19064 (Crozer Keystone Healthplex, 194 W. Sproul, Rd., #105, 610-543-3246).

State College 16801 (3048 Enterprise Drive, 814-867-5415).

Tobyhanna 18466 (Tobyhanna Army Depot Building 220, 570-895-8341).

Uniontown 15401 (404 W. Main St., 724-439-4990).

Warren 16365 (3 Farm Colony Dr., 814-723-9763).

Washington 15301 (100 Ridge Avenue, 724-250-7790).

Wilkes-Barre 18711 (1111 East End Boulevard, 570-924-3521).

Williamsport 17701 (1705 Warren Ave., Werner Blg-3rd Fl., #304, 570-322-4791).

York 17402 (1797 Third Avenue, 717-854-2481 or 717-854-2322).

Regional Offices

Philadelphia 19101 (Regional Office and Insurance Center, P.O. Box 8079, 5000 Wissahickon Ave., 1-800-827-1000; Serves counties of Adams, Berks, Bradford, Bucks, Cameron, Carbon, Centre, Chester, Clinton, Columbia, Dauphin, Delaware, Franklin, Juniata, Lackawanna, Lancaster, Lebanon, Lehigh, Luzerne, Lycoming, Mifflin, Monroe, Montgomery, Montour, Northampton, Northumberland, Perry, Philadelphia, Pike, Potter, Schuylkill, Snyder, Sullivan, Susquehanna, Tioga, Union, Wayne, Wyoming, York.).

Pittsburgh 15222 (1000 Liberty Ave., statewide 1-800-827-1000. Serves remaining counties of Pennsylvania.).

Benefits Office

Wilkes-Barre 18702 (1123 East End Blvd., Bldg. 35, Suite 11, 1-800-827-1000).

Vet Centers

Erie 16501 (1000 State St., Suite 1&2, 814-453-7955).

Harrisburg 17102 (1500 N. 2nd St., Suite 2, 717-782-3954).

McKeesport 15131 (2001 Lincoln Way, 412-678-7704).

Philadelphia 19107 (801 Arch St., Suite 102, 215-627-0238).

Philadelphia 19120 (101 E. Olney Ave., 215-924-4670).

Pittsburgh 15205 (2500 Baldwick Rd., Suite 15, 412-920-1765).

Scranton 18505 (1002 Pittston Ave., 570-344-2676).

Williamsport 17701 (805 Penn St., 570-327-5281).

National Cemeteries

Indiantown Gap 17003-9618 (R.R. 2, P.O. Box 484, Indiantown Gap Rd., Annville, 717-865-5254).

Cemetery of the Alleghenies 15017 (1158 Morgan Rd., Bridgeville, 724-746-4363).

Philadelphia 19138 (Haines St. & Limekiln Pike, 609-877-5460).

PHILIPPINES

Clinic

Pasay City 1300 (2201 Roxas Blvd., 011-632-833-4566).

Regional Office

Manila 0930 (1131 Roxas Blvd., 011-632-528-6300, International Mailing Address PSC 501, FPO AP 96515-1100).

PUERTO RICO

Medical Center

San Juan 00921-3201 (10 Casia Street, 787-641-7582 or 800-449-8729).

Clinics

Arecibo 00612 (Victor Rojas II/Zona Industrial Carr. 129, 787-816-1818).

Guayama 00784 (FISA Bldg 1st Floor, Paseo Del Pueblo, km 0.3, lot no. 6, 787-866-8766).

Mayagüez 00680-1507 (Avenida Hostos #345, 787-265-8805).

Ponce 00716-2001 (Paseo Del Veterano #1010, 787-812-3030).

Regional Office

San Juan 00918-1703 (150 Carlos Chardon Ave., Suite 300. Send mail to Suite 232.

Serving all Puerto Rico and the Virgin Islands, 1-800-827-1000).

Benefits Offices

Mayaguez 00680-1507 (Ave. Hostos 345, Carretera 2, Frente al Centro Medico, 1-800-827-1000).

Ponce 00731 (10 Paseo del Veterano, 1-800-827-1000).

Arecibo 00612 (Gonzalo Marin 50, 1-800-827-1000).

Vet Centers

Arecibo 00612-4702 (52 Gonzalo Marin St., 787-879-4510/4581).

Ponce 00731 (35 Mayo St., 787-841-3260).

San Juan 00921 (Condominio Med. Ctr. Plaza, Suite LC8A11, La Riviera, 787-749-4409).

National Cemetery

Puerto Rico 00961 (Ave. Cementerio Nacional 50, Barrio Hato Tejas, Bayamon, 787-798-8400).

RHODE ISLAND

VA Medical Center

Providence 02908 (830 Chalkstone Avenue, 401-273-7100 or 866-590-2976).

Clinic

Middletown 02842 (One Corporate Place, 401-847-6239).

Regional Office

Providence 02903 (380 Westminster St.; statewide, 1-800-827-1000).

Vet Center

Warwick 02889 (2038 Warwick Ave., 401-739-0167).

SOUTH CAROLINA

VA Medical Centers

Charleston 29401 (109 Bee Street, 843-577-5011 or 888-878-6884).

Columbia 29209 (6439 Garners Ferry Road, 803-776-4000).

Clinics

Anderson 29621 (1702 E. Greenville Street, 864-224-5450).

Beaufort 29902 (Pickney Road, 843-770-0444).

Florence 29505 (514-H Dargan St., 843-292-8383).

Greenville 29605 (3510 Augusta Rd., 864-299-1600).

Myrtle Beach 29577 (3381 Phillis Blvd., 843-477-0177).

North Charleston 29406 (9237 University Blvd, 843-789-6400).

Orangeburg 29118 (1767 Villagepark Drive, 803-533-1335).

Rock Hill 29730 (205 Piedmont Blvd, 803-366-4848).

Sumter 29150 (407 North Salem Avenue, 803-938-9901).

Nursing Home

Walterboro 29488 (2461 Sidneys Road, Veterans Victory House, 843-538-3000).

Regional Office

Columbia 29201 (1801 Assembly St., statewide 1-800-827-1000).

Vet Centers

Columbia 29201 (1513 Pickens St., 803-765-9944).

Greenville 29601 (14 Lavinia Ave., 864-271-2711).

North Charleston 29406 (5603-A Rivers Ave., 843-747-8387).

National Cemeteries

Beaufort 29902-3947 (1601 Boundary St., 843-524-3925).

Florence 29501 (803 E. National Cemetery Rd., 843-669-8783).

SOUTH DAKOTA

VA Medical Centers

Fort Meade 57741 (113 Comanche Road, 605-347-2511 or 800-743-1070).

Hot Springs 57747 (500 North 5th Street, 605-745-2000 or 800-764-5370).

Sioux Falls 57117 (2501 W. 22nd St., P.O. Box 5046, 605-336-3230 or 800-316-8387).

Clinics

Aberdeen 57401 (1440 15th Avenue NW, 605-622-2640).

Eagle Butte 57625 (15 Main Street, 605-964-8000).

Mission 57555 (153 Main Street, 605-856-2295).

Pierre 57501 (1601 North Harrison, Suite 6, 605-945-1710).

Pine Ridge (605-867-2393).

Rapid City 57701 (3525 5th Street, 605-718-1095).

Winner 57580 (1436 E. 10th St., 605-842-2443).

Regional Office

Sioux Falls 57117 (P.O. Box 5046, 2501 W. 22nd St., statewide 1-800-827-1000).

Vet Centers

Martin 57551 (East Hwy 18, 605-685-1300).

Rapid City 57701 (621 6th St., Suite 101 Kansas City St., 605-348-0077).

Sioux Falls 57104 (601 S. Cliff Ave., Suite C, 605-330-4552).

National Cemeteries

Black Hills 57785 (20901 Pleasant Valley Dr., Sturgis, 605-347-3830).

Fort Meade 57785 (P.O. Box 640, Old Stone Rd., Sturgis, 605-347-3830).

Hot Springs 57747 (500 N 5th St., 605-347-3830).

TENNESSEE

VA Medical Centers

Memphis 38104 (1030 Jefferson Avenue, 901-523-8990 or 800-636-8262).

Mountain Home 37684 (Corner of Lamont and Sydney Streets, P.O. Box 4000, 423-926-1171 or 877-573-3529).

Murfreesboro 37129 (3400 Lebanon Pike, 615-867-6000 or 800-876-7093).

Nashville 37212 (1310 24th Avenue South, 615-327-4751 or 800-228-4973).

Clinics

Arnold Air Force Base 37389 (225 First Street, 931-454-6134).

Chattanooga 37411 (150 Debra Rd., Suite 5200, Bldg. 6200, 423-893-6500).

Clarksville 37043 (1731 Memorial St., Suite 110, 931-221-2171).

Cookeville 38501 (851 S. Willow Avenue, Suite 108, 931-284-4060).

Dover 37204 (1021 Spring Street, 931-232-5329).

Nashville 37204 (601 Benton Ave, Nashville, 615-292-9770).

Knoxville 37923 (9031 Cross Park Drive, 865-545-4592).

Savannah 38372 (765-A Florence Rd, 731-925-2300).

Regional Office

Nashville 37203 (110 9th Ave., South, statewide 1-800-827-1000).

Vet Centers

Chattanooga 37411 (951 Eastgate Loop Rd., Bldg. 5700, Suite 300, 423-855-6570).

Johnson City 37604 (1615A W. Market St., 423-928-8387).

Knoxville 37914 (2817 E. Magnolia Ave., 865-545-4680).

Memphis 38104 (1835 Union, Suite 100, 901-544-0173).

Nashville 37217 (Airpark Bus. Cen. 1, Suite A-5, 1420 Donelson Pike, 615-366-1220).

National Cemeteries

Chattanooga 37404 (1200 Bailey Ave., 423-855-6590).

Knoxville 37917 (939 Tyson St., N.W., 423-855-6590).

Memphis 38122 (3568 Townes Ave., 901-386-8311).

Mountain Home 37684 (P.O. Box 8, VAMC, Bldg. 117, 423-979-3535).

Nashville 37115-4619 (1420 Gallatin Rd. S., Madison, 615-860-0086).

TEXAS

VA Medical Centers

Amarillo 79106 (6010 Amarillo Boulevard West, 806-355-9703 or 800-687-8262).

Big Spring 79720 (300 Veterans Blvd., 432-263-7361 or 800-472-1365).

Bonham 75418 (1201 E. 9th Street, 903-583-2111 or (800) 924-8387).

Dallas 75216 (4500 South Lancaster Road, 214-742-8387 or 800-849-3597).

El Paso 79930 (5001 North Piedras Street, 915-564-6100 or 800-672-3782).

Harlingen 78550 (South Texas VA Health Care Center, 2106 Treasure Hills Blvd., 956-366-4500).

Houston 77030 (2002 Holcombe Blvd., 713-791-1414 or 800-553-2278).

Kerrville 78028 (3600 Memorial Blvd, 830-896-2020).

San Antonio 78229 (7400 Merton Minter Blvd., 210-617-5300 or 888-686-6350).

Temple 76504 (1901 Veterans Memorial Drive, 254-778-4811 or 800-423-2111).

Waco 76711 (4800 Memorial Drive, 254-752-6581 or 800-423-2111).

Clinics

Abilene 79602 (4225 Woods Place, 325-695-3252).

Austin 78741 (2901 Montopolis Drive, 512-389-1010).

Beaumont 77707 (3420 Veterans Circle, 409-981-8550 or 1-800-833-7734).

Beeville 78102 (302 S. Hillside Dr., 361-358-9912).

Bridgeport 76426 (808 Woodrow Wilson Ray Cir., 940-683-2297).

Brownwood 76801 (2600 Memorial Park Drive, 325-641-0568).

Cedar Park 78613 (701 Whitestone Boulevard, 512-260-1368).

Childress 79201 (1001 Hwy 83 North, 940-937-3636).

College Station 77845 (1605 Rock Prairie Rd., Ste. 212, 979-680-0361).

Conroe 77304 (800 Riverwood Ct., Ste. 100, 936-522-4000).

Corpus Christi 78405 (5283 Old Brownsville Road, 361-806-5600).

Denton 76205 (2223 Colorado Blvd., 940-213-4100).

Fort Worth 76104 (300 W. Rosedale Street, 817-335-2202 or 800-443-9672).

Fort Worth 76107 (855 Montgomery Street, 817-735-2228).

Fort Stockton 79735 (501 N. Main, 432-336-0700).

Galveston 77551 (6115 Avenue L, 409-741-0256 or 800-310-5001).

Granbury 76049 (2006 Fall Creek Hwy., 817-326-3440).

Greenville 75407 (4311 Wesley St., 903-455-5958).

Harlingen 78550 (1629 Treasure Hills Blvd., Suite 5-B, 956-366-4500).

Laredo 78041 (6551 Star Court, 956-523-7850, refills 1-800-209-7377).

Longview 75601 (1205 E. Marshal Ave., 903-247-8262 or 800-957-8262).

Lubbock 79412 (6104 Avenue Q South Drive, 806-472-3400).

Lufkin 75901 (1301 Frank Avenue, 936-637-1342 or 1-800-209-3120).

McAllen 78501 (2101 S. Colonel Rowe Blvd., 956-618-7100 or 866-622-5536).

New Braunfels 78130 (189 E. Austin, Suite 106, 830-629-3614).

Odessa 79762 (4241 N. Tanglewood, Suite 201, 432-550-0149).

Palestine 75801 (2000 So. Loop 256, Suite 124, 903-723-9006).

Paris 75462 (635 Stone Ave., 903-785-9900).

San Antonio 78240 (Frank M, Tejeda OPC, 5788 Eckhert Road, 210-699-2100).

San Antonio Dental Clinic 78299 (8410 Data Point, 210-949-8900).

San Angelo 76905 (2018 Pulliam, 325-658-6138).

San Antonio 78226 (1831 S. General McMullen, 210-434-1400).

San Antonio Greenway 78217 (2455 NE Loop 410, Ste. 100, 210-599-6000).

San Antonio Northern Hills 78217 (14100 Nacogdoches, Ste. 116, 210-653-8989).

San Antonio Pecan Valley 78222 (4243 E. Southcross, Ste. 205, 210-304-3500).

Sherman 75090 (2612 N. Loy Lake, Ste. 300, 903-891-8317).

Stamford 79553 (Box 911, Hwy 6 East, 325-773-2710).

Stratford 79084 (1220 Purnell, P.O. Box 1107, 806-396-2852).

Texas City 77591 (9300 Emmett F. Lowry Expressway, Suite 206, 409-986-1129 or 800-310-5001).

Tyler 75701 (3414 Golden Rd., 903-593-6064).

Victoria 77901 (1502 E. Airline Dr., Suite 40, 361-582-7700 or 800-209-7377).

Wichita Falls 76301 (1800 7th St., 940-723-2373).

Regional Offices

Houston 77030 (6900 Almeda Rd., statewide, 1-800-827-1000. Serves counties of Angelina, Aransas, Atacosa, Austin, Bandera, Bee, Bexar, Blanco, Brazoria, Brewster, Brooks, Caldwell, Calhoun, Cameron, Chambers, Colorado, Comal, Crockett, DeWitt, Dimitt, Duval, Edwards, Fort Bend, Frio, Galveston, Gillespie, Goliad, Gonzales, Grimes, Guadeloupe, Hardin, Harris, Hays, Hidalgo, Houston, Jackson, Jasper, Jefferson, Jim Hogg, Jim Wells, Karnes, Kendall, Kennedy, Kerr, Kimble, Kinney, Kleberg, LaSalle, Lavaca, Liberty, Live Oak, McCulloch, McMullen, Mason, Matagorda, Maverlck, Medina, Menard, Montgomery, Nacogdoches, Newton, Nueces, Orange, Pecos, Polk, Real, Refugio, Sabine, San Augustine, San Jacinto, San Patricio, Schleicher, Shelby, Starr, Sutton, Terrell, Trinity, Tyler, Uvalde, Val Verde, Victoria, Walker, Waller, Washington, Webb, Wharton, Willacy, Wilson, Zapata, Zavala).

Waco 76799 (One Veterans Plaza, 701 Clay; statewide, 1-800-827-1000; serves the rest of the state. In Bowie County, the City of Texarkana is served by Little Rock, AR, VA Regional Office, 1-800-827-1000.).

Benefits Offices

Abilene 79602 (Taylor County Plaza Bldg., Suite 103, 400 Oak St., 1-800-827-1000).

Amarillo 79106 (6010 Amarillo Blvd. W., 1-800-827-1000).

Austin 78741 (2901 Montopolis Dr., Room 108, 1-800-827-1000).

Corpus Christi 78405 (4646 Corona Dr., Suite 150, 1-800-827-1000).

Dallas 75216 (4500 S. Lancaster Rd., 1-800-827-1000).

El Paso 79930 (5001 Piedras Dr., 1-800-827-1000).

Ft. Worth 76104-4856 (300 W. Rosedale St., 1-800-827-1000).

Lubbock 79410 (6104 Ave. Q S Drive, Rm. 132, 1-800-827-1000).

McAllen 78503 (109 Toronto Ave., 1-800-827-1000).

San Antonio 78240 (5788 Eckert Rd., 1-800-827-1000).

Temple 76504 (1901 Veterans Memorial Dr., Room 5G38 [BRB], 1-800-827-1000).

Tyler 75701 (1700 SSE Loop 323, Suite 310, 1-800-827-1000).

Vet Centers

Amarillo 79109 (3414 Olsen Blvd., Suite E., 806-354-9779).

Austin 78745 (1110 W. Will Cannon Dr., Suite 301, 512-416-1314).

Corpus Christi 78411 (4646 Corona, Suite 250, 361-854-9961).

Dallas 75231 (10501 N. Central Expressway, Suite 213, 214-361-5896).

El Paso 79925 (1155 Westmoreland, Suite 121, 915-772-0013).

Fort Worth 76104 (1305 W. Magnolia, Suite B, 817-921-9095).

Harker Heights 76548 (302 Millers Crossing, Suite #4, 254-953-7100).

Houston 77006 (2990 Richmond Ave., Suite 325, 713-523-0884).

Houston 77024 (701 N. Post Oak Rd., Suite 102, 713-682-2288).

Laredo 78041 (6020 McPherson Rd., 1A, 956-723-4680).

Lubbock 79410 (3208 34th St., 806-792-9782).

McAllen 78504 (801 Nolana, Suite 140, 956-631-2147).

Midland 79703 (3404 W. Illinois, Suite 1, 432-697-8222).

San Antonio 78212 (231 W. Cypress St., Suite 100, 210-472-4025).

National Cemeteries

Dallas-Fort Worth 75211 (2000 Mountain Creek Parkway, 214-467-3374).

Fort Bliss 79906 (Box 6342, 5200 Fred Wilson Rd., 915-564-0201).

Fort Sam Houston 78209 (1520 Harry Wurzbach Rd., San Antonio, 210-820-3891/3894).

Houston 77038 (10410 Veterans Memorial Dr., 281-447-8686).

Kerrville 78028 (VAMC, 3600 Memorial Blvd., 210-820-3891/3894).

San Antonio 78202 (517 Paso Hondo St., 210-820-3891/3894).

UTAH

VA Medical Center

Salt Lake City 84148 (500 Foothill Drive, 801-582-1565 or 800-613-4012).

Clinics

Fountain Green 84632 (300 W. 300 S., 435-623-3129).

Nephi 84648 (48 W. 1500 N., 435-623-3129).

Ogden 84403 (982 Chambers Street, 801-479-4105).

Orem 84057 (740 W. 800 N., Suite 440, 801-235-0953).

Roosevelt 84066 (210 W. 300 N. (75-3), 435-725-2082).

St. George 84770 (1067 East Tabernacle, Suite 7, 435-634-7608 Ext. 6000).

Regional Office

Salt Lake City 84158 (P.O. Box 581900, 550 Foothill Dr., statewide, 1-800-827-1000).

Vets Centers

Provo 84604 (1807 No. 1120 West, 801-377-1117).

Salt Lake City 84106 (1354 East 3300 South, 801-584-1294).

VERMONT

VA Medical Center

White River Junction 05009 (215 North Main Street, 802-295-9363 or 866-687-8387).

Clinics

Bennington 05201 (190 North Street, 802-447-6913).

Colchester 05446 (74 Hegeman Ave., 802-655-1356).

Rutland 05702 (215 Stratton Road, 802-773-3386).

Regional Office

White River Junction 05001 (215 N. Main St., 802-296-5177 or 1-800-827-1000 from within Vermont).

Vets Centers

South Burlington 05403 (359 Dorset St., 802-862-1806).

White River Junction 05001 (222 Holiday Inn Dr., #2 Gilman Office Complex, 802-295-2908 or 1-800-649-6603).

VIRGINIA

VA Medical Centers

Hampton 23667 (100 Emancipation Drive, 757-722-9961).

Richmond 23249 (1201 Broad Rock Boulevard, 804-675-5000 or 800-784-8381).

Salem 24153 (1970 Roanoke Boulevard, 540-982-2463 or 888-982-2463).

Clinics

Alexandria 22301 (6940 South Kings Highway, Suite #208, 703-313-0694).

Danville 24540 (100 Vicar Pl., 434-836-2100).

Fredericksburg 22401 (1960 Jefferson Davis Hwy., Suite 100, 540-370-4468).

Harrisonburg 22801 (847 Cantrell Avenue, Suite 100, 540-442-1773).

Martinsville 24112 (315 Hospital Way, Ste. 101, 276-632-5929).

Stephens City 22655 (106 Hyde Court, 540-869-0600).

Saltville 23470 (308 W. Main St., 276-496-4433).

Tazewell 24651 (123 Ben Bolt Ave., 276-988-2526).

Virginia Beach 23462 (244 Clearfield Ave., 757-726-6070).

Regional Office

Roanoke 24011 (210 Franklin Rd., S.W., statewide, 1-800-827-1000).

Vets Centers

Alexandria 22309 (8796 Sacramento Dr., Suite D&E, 703-360-8633).

Norfolk 23517 (2200 Colonial Ave., Suite 3, 757-623-7584).

Richmond 23230 (4902 Fitzhugh Ave., 804-353-8958).

Roanoke 24016 (350 Albemarle Ave., SW, 540-342-9726).

National Cemeteries

Alexandria 22314 (1450 Wilkes St., 703-221-2183/2184).

Balls Bluff 22075 (Rte. 7, Leesburg, 540-825-0027).

City Point 23860 (10th Ave. & Davis St., Hopewell, 804-795-2031).

Cold Harbor 23111 (6038 Cold Harbor Rd., Mechanicsville, 804-795-2031).

Culpeper 22701 (305 U.S. Ave., 540-825-0027).

Danville 24541 (721 Lee St., 704-636-2661).

Fort Harrison 23231 (8620 Varina Rd., Richmond, 804-795-2031).

Glendale 23231 (8301 Willis Church Rd., Richmond, 804-795-2031).

Hampton 23667 (Cemetery Rd. at Marshall Ave., 757-723-7104).

Hampton 23667 (VAMC, Emancipation Dr., 757-723-7104).

Quantico 22172 (P.O. Box 10, 18424 Joplin Rd. (Rte. 619), 703-221-2183/2184).

Richmond 23231 (1701 Williamsburg Rd., 804-795-2031).

Seven Pines 23150 (400 E. Williamsburg Rd., Sandston, 804-795-2031).

Staunton 24401 (901 Richmond Ave., 540-825-0027).

Winchester 22601 (401 National Ave., 540-825-0027).

VIRGIN ISLANDS

Clinics

St. Croix 00850-4701 (The Village Mall, RR 2 Box 10556, 340-774-6674).

St. Thomas 00802 (Havensight Mall, Building III (Upper), Suite 304 & 310, New Quarter, 340-774-6674).

Benefits

Served by San Juan, Puerto Rico, VA Regional Office, 1-800-827-1000.

Vets Centers

St. Croix 00850 (Box 12, R.R. 02, Village Mall, 113, RR2 Box 10556, Kingshill, 340-778-5553).

St. Thomas 00802 (9800 Buchaneer Mall, Suite 8, 340-774-6674).

WASHINGTON

VA Medical Centers

Seattle 98108 (1660 S. Columbian Way, 800-329-8387 or 206-762-1010).

Spokane 99205 (4815 N. Assembly Street, 509-434-7000 or 800-325-7940).

Tacoma 98493 (9600 Veterans Dr., 253-582-8440 or 800-329-8387).

Vancouver 98661 (1601 E. 4th Plain Blvd., 360-696-4061 or 800-949-1004).

Walla Walla 99362 (77 Wainwright Drive, 509-525-5200 or 888-687-8863).

Clinics

Bellevue 98005 (13033 Bel-Red Road, Suite 210, 425-214-1055).

Bremerton 98312 (925 Adele Avenue, 360-782-0129).

Federal Way 98003 (34617 11th Place South, 253-336-4142).

Richland 99352 (946 Stevens Drive, Suite C, 509-946-1020).

Seattle 98125 (12360 Lake City Way NE, Suite 200, 206-384-4382).

Wenatchee 98801 (2530 Chester-Kimm Road, 509-663-7615).

Yakima 98902 (717 Fruitvale Blvd., 509-966-0199).

Yakima Mental Health Clinic 98902 (1111 N. 1st Street, Suite 1, 509-457-2736).

Regional Office

Seattle 98174 (Fed. Bldg., 915 2nd Ave., statewide, 1-800-827-1000).

Benefits Offices

Fort Lewis 98433 (Waller Hall Rm. 700, P.O. Box 331153, 253-967-7106).

Bremerton 98337 (W. Sound Pre-Separation Center, 262 Burwell St., 360-782-9900).

Vets Centers

Bellingham 98226 (3800 Byron Ave., Suite 124, 360-733-9226).

Seattle 98121 (2030 9th Ave., Suite 210, 206-553-2706).

Spokane 99206 (100 N. Mullan Rd., Suite 102, 509-444-8387).

Tacoma 98409 (4916 Center St., Suite E, 253-565-7038).

Yakima 98901 (1111 N. First St., 509-457-2736).

National Cemetery

Tahoma 98042-4868 (18600 S.E. 240th St., Kent, 425-413-9614).

WEST VIRGINIA

VA Medical Centers

Beckley 25801 (200 Veterans Avenue, 304-255-2121 or 877-902-5142).

Clarksburg 26301 (One Medical Center Drive, 304-623-3461 or 800-733-0512).

Huntington 25704 (1540 Spring Valley Drive, 304-429-6741 or 800-827-8244).

Martinsburg 25405 (510 Butler Avenue, 304-263-0811 or 800-817-3807).

Clinics

Charleston 25304 (104 Alex Ln., 304-926-6001).

Franklin 26807 (314 Pine Street, 304-358-2355).

Logan 25601 (513 Dingess St., 304-752-8355).

Parkersburg 260101 (2311 Ohio Avenue, Suite A, 304-422-5114).

Parsons 26287 (206 Spruce Street, 304-478-2219).

Petersburg 26847 (Grant Memorial Hospital, P. O. Box 1019, 304-257-5817).

Sutton 26602 (93 Skidmore Lane, 304-765-3480).

Williamson 25661 (75 W 4th Ave, 304-235-2187).

Regional Office

Huntington 25701 (640 Fourth Ave., statewide 1-800-827-1000; counties of Brooke, Hancock, Marshall, Ohio, served by Pittsburgh, Pa., VA Regional Office).

Vets Centers

Beckley 25801 (101 Ellison Ave., 304-252-8220).

Charleston 25302 (521 Central Ave., 304-343-3825).

Huntington 25701 (3135 16th St. Rd., Suite 11, 304-523-8387).

Martinsburg 25401 (900 Winchester Ave., 304-263-6776).

Morgantown 26508 (1083 Greenbag Rd., 304-291-4303).

Princeton 24740 (905 Mercer St., 304-425-5653).

Wheeling 26003 (1206 Chapline St., 304-232-0587).

National Cemeteries

Grafton 26354 (431 Walnut St., 304-265-2044).

West Virginia 26354 (Rt. 2, Box 127, Grafton, 304-265-2044).

WISCONSIN

VA Medical Centers

Madison 53705 (2500 Overlook Terrace, 608-256-1901).

Milwaukee 53295 (5000 West National Avenue, 888-469-6614 or 414-384-2000).

Tomah 54660 (500 E. Veterans Street, 608-372-3971 or 800-872-8662).

Clinics

Appleton 54914 (10 Tri-Park Way, 920-831-0070).

Baraboo 53913 (626 14th Street, 608-356-9318).

Beaver Dam 53916 (215 Corporate Drive, 920-356-9415).

Chippewa Falls 54729 (2501 & 2503 County Hwy I, 715-720-3780).

Cleveland 53015 (1205 North Avenue, 920-693-5600).

Green Bay 54303 (141 Siegler Street, 920-497-3126).

Hayward 54843 (15748 County Road B, 715-934-5454).

Janesville 53545 (111 N. Main Street, 608-758-9300).

Kenosha 53140 (800 55th Street, 262-653-9286).

La Crosse 54601 (2600 State Road, Phone: 608-784-3886).

Loyal 54446 (141 N. Main Street, 715-255-9799).

Rhinelander 54501 (639 West Kemp Street, 715-362-4080).

Rice Lake 54843 (2700A College Drive, 715-236-3355).

Superior 54880 (3520 Tower Avenue, 715-392-9711) Union Grove 53182 (21425 Spring Street, 262-878-7000).

Wausau 54401 (515 South 32nd Avenue, 715-842-2834).

Wisconsin Rapids 54494 (710 East Grand Ave., PO Box 26, 715-424-3844).

Regional Office

Milwaukee 53214 (5400 W. National Ave., statewide 1-800-827-1000).

Vets Centers

Madison 53703 (706 Williamson St., 608-264-5342).

Milwaukee 53218 (5401 N. 76th St., 414-536-1301).

National Cemetery

Wood 53295-4000 (5000 W. National Ave., Bldg. 1301, Milwaukee, 414-382-5300).

WYOMING

VA Medical Centers

Cheyenne 82001 (2360 E. Pershing Blvd., 307-778-7550 or 888-483-9127).

Sheridan (1898 Fort Road, 307-672-3473 or 866-822-6714).

Clinics

Casper 82601 (4140 S. Poplar St., 307-235-4143 or 1-866-338-5168).

Gillette 82718 (1701 Phillips Circle, 307-685-0676 or 1-866-612-1887).

Newcastle 57555 (1124 Washington Blvd., 605-745-2000 ext. 2474).

Powell 82435 (777 Avenue H, 307-754-7257 or 1-888-284-9308).

Riverton 82501 (2300 Rose Lane, 307-857-1211 or 1-866-338-2609).

Rock Springs 82901 (3000 College Drive, Suite C, 307-362-6641 or 866-381-2830).

Benefits Office

Cheyenne 82001 (2360 E. Pershing Blvd., statewide 1-800-827-1000).

Vets Centers

Casper 82601 (1030 North Poplar, Suite B, 307-261-5355).

Cheyenne 82001 (3219 East Pershing Blvd., 307-778-7370).

[FR Doc. E9-14302 Filed 6-18-09; 8:45 am]

BILLING CODE 8320-01-P